DEPARTMENT OF HOUSING AND URBAN DEVELOPMENT

[Docket No. FR-6395-N-02]

Notice of Regulatory Waiver Requests Granted for the Second Quarter of Calendar Year 2023

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on April 1, 2023 and ending on June 30, 2023.

FOR FURTHER INFORMATION CONTACT: For general information about this notice, contact Aaron Santa Anna, Associate General Counsel for Legislation and Regulations, Department of Housing and Urban Development, 451 7th Street SW, Room 10282, Washington, DC 20410-0500, telephone 202-708-5300 (this is not a toll-free number). HUD welcomes and is prepared to receive calls from individuals who are deaf or hard of hearing, as well as individuals with speech and communication disabilities.

To learn more about how to make an accessible telephone call, please visit please visit: https://www.fcc.gov/consumers/guides/telecommunications-relay-service-trs.

For information concerning a particular waiver that was granted and for which public notice is provided in this document, contact the person whose name and address follow the description of the waiver granted in the accompanying list of waivers that have been granted in the second quarter of calendar year 2023.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from April 1, 2023, through June 30, 2023. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the second quarter of calendar year 2023) before the next report is published (the third quarter of calendar year 2023), HUD will include any additional waivers granted for the second quarter in the next report.

Accordingly, information about approved waiver requests pertaining to HUD regulations is provided in the Appendix that follows this notice.

Damon Y. Smith,
General Counsel.

Appendix

Listing of Waivers of Regulatory Requirements Granted by Offices of the Department of Housing and Urban Development April 1, 2023 Through June 30, 2023

Note to Reader: More information about the granting of these waivers, including a copy of the waiver request and approval, may be obtained by contacting the person whose name is listed as the contact person directly after each set of regulatory waivers granted.

The regulatory waivers granted appear in the following order:

I. Regulatory waivers granted by the Office of Community Planning and Development

II. Regulatory waivers granted by the Office of Public and Indian Housing

I. Regulatory Waivers Granted by the Office of Community Planning and Development

For further information about the following regulatory waivers, please see the name of the contact person that immediately follows the description of the waiver granted.

• Regulation: 24 CFR 92.203(a)(1) and (2).

Project/Activity: Any participating jurisdiction or grantee located in the declared-disaster area (see FEMA-DR-4698-AR) affected by the severe storms and tornadoes in Arkansas.

Nature of Requirement: These sections of the HOME regulation require initial income determinations for HOME beneficiaries by examining source documents covering the most recent two months.

Granted By: Marion M. McFadden, Principal Deputy Assistant Secretary for Community Planning and Development.

Date Granted: April 11, 2023.

Reason Waived: Many families whose housing was destroyed or damaged by the disaster will not have any documentation of income and will not be able to qualify for HOME assistance if the requirement remains effective. This waiver permits the participating jurisdiction to use self-certification of income, as provided in § 92.203(a)(1)(ii), in lieu of source documentation to determine eligibility for HOME assistance of persons displaced by the disaster.

Applicability: These waivers are only available to participating jurisdictions within the declared-disaster areas or a State participating jurisdiction of the declared-disaster areas to assist those displaced by the disaster. This waiver applies only to families displaced by the disaster (as evidenced by FEMA registration) whose income documentation was destroyed or made inaccessible by the disaster and remains in effect for six months from April 11, 2023. The participating jurisdiction or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.209(e), (h)(1), and (i).

Project/Activity: Projects located in the declared-disaster areas (see FEMA-DR-4698-AR).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. Section 92.209(i) requires that units occupied by TBRA recipients meet the housing quality standards established in 24 CFR 982.401.

Granted By: Marion M. McFadden, Principal Deputy Assistant Secretary for Community Planning and Development.

Date Granted: April 11, 2023.

Reason Waived: Waiving these provisions will provide the participating jurisdiction with greater flexibility to use tenant-based rental assistance as an emergency housing resource.

Applicability: All of these waivers are only available to a participating jurisdiction within the declared-disaster area or a State participating jurisdiction of the declared-disaster area providing TBRA to those displaced by the disaster, in accordance with the applicable conditions described below.

The requirement in 24 CFR 92.209(e) that the start date of a TBRA contract begin on the first day of the term of a tenant's lease is waived for TBRA contracts a participating jurisdiction executes for persons or families displaced by the disaster, as evidenced by the tenant's FEMA registration or other relevant documentation acceptable to the participating jurisdiction, for a period of 24 months after April 11, 2023. The provision of 24 CFR 92.209(h)(1) imposing the maximum amount of TBRA assistance a participating jurisdiction may provide to a family under HOME TBRA is waived for TBRA recipients who are displaced by the disaster, as evidenced by the family's FEMA registration, for a period of 24 months after April 11, 2023. The other provisions of 24 CFR 92.209(h) are not waived. The waiver of the housing quality standards requirements at 24 CFR 92.209(i) applies to units leased by TBRA recipients who were displaced by the disaster, as evidenced by the recipient's FEMA registration, and are being assisted through a HOME TBRA program funded by the participating jurisdiction for a period of 24 months after April 11, 2023. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Office of Community Planning and Development, Department of Housing and Urban Development, 451 Seventh Street SW, Room 7160, Washington, DC 20410, telephone (202) 708-2684.

• Regulation: 24 CFR 92.222(b)(1).

Project/Activity: Any participating jurisdiction located in the declared-disaster areas (see FEMA-DR-4698-AR).

Nature of Requirement: Section 220(a) of the Cranston-Gonzalez National Affordable Housing Act (42 U.S.C. 12750(a)) (NAHA) and 24 CFR 92.218 require all HOME participating jurisdictions to contribute throughout the fiscal year to housing that qualifies as affordable housing under the HOME program. The contributions must total no less than 25 percent of the HOME funds drawn from the participating jurisdiction's HOME Investment Trust Fund Treasury account. Section 220(d)(5) of NAHA (42 U.S.C. 12750(d)(5)) and § 92.222(b) also permit HUD to reduce this matching requirement for a participating jurisdiction located in a declared-disaster area for any funds drawn from a participating jurisdiction's HOME Investment Trust Fund by up to 100 percent during any part of a fiscal year impacted by the disaster. However, § 92.222(b)(1) imposes certain conditions in granting the reduction to the matching requirement which HUD has determined there is sufficient good cause to waive.

Granted By: Marion M. McFadden, Principal Deputy Assistant Secretary for Community Planning and Development.

Date Granted: April 11, 2023.

Reason Waived: Given the urgent housing needs created by the disaster and the substantial financial impact the participating jurisdiction will face in addressing those needs, the approval of a 100 percent match reduction for participating jurisdictions in the declared-disaster areas, rather than on a case-by-case basis, will relieve administrative and financial burden on affected participating jurisdictions by expediting the process for reduction and the need to identify and provide matching contributions to HOME projects.

Applicability: This match reduction applies to funds expended by a participating jurisdiction located in the declared-disaster areas from October 1, 2022, through September 30, 2024. The waiver also applies to State-funded HOME projects located in declared-disaster areas.

Contact: Virginia Sardone, Director, Office of Affordable Housing Programs, Office of Community Planning and Development, Department of Housing and Urban Development, 451 Seventh Street SW, Room 7160, Washington, DC 20410, telephone (202) 708-2684.

• Regulation: 24 CFR 92.251.

Project/Activity: Projects located in the declared-disaster areas (see FEMA-DR-4698-AR).

Nature of Requirement: This provision requires that housing assisted with HOME funds meet property standards based on the activity undertaken, i.e., acquisition of housing including through homebuyer assistance, and state and local standards and codes or model codes for rehabilitation and new construction. Property standard requirements are waived for repair of properties damaged by the disaster.

Granted By: Marion M. McFadden, Principal Deputy Assistant Secretary for Community Planning and Development.

Date Granted: April 11, 2023.

Reason Waived: This waiver is required to enable the participating jurisdiction to meet the critical housing needs of families whose housing was damaged and families who were displaced by the disaster.

Applicability: This waiver applies only to housing units located in the declared-disaster areas which were damaged by the disaster and to which HOME funds are committed within two years of April 11, 2023. Units must meet State and local health and safety codes. The lead housing safety regulations established in 24 CFR part 35 are not waived. Also, accessibility requirements at 24 CFR 92.251(a)(2)(i) are not waived.

Contact: Virginia Sardone, Director, Office of Affordable Housing Programs, Office of Community Planning and Development, Department of Housing and Urban Development, 451 Seventh Street SW, Room 7160, Washington, DC 20410, telephone (202) 708-2684.

• Regulation: 24 CFR 93.151(c).

Project/Activity: Projects located in the declared-disaster areas (see FEMA-DR-4698-AR).

Nature of Requirement: This section of the HTF regulation requires initial income determinations for HTF beneficiaries by examining source documents covering the most recent two months.

Granted By: Marion M. McFadden, Principal Deputy Assistant Secretary for Community Planning and Development.

Date Granted: April 11, 2023.

Reason Waived: Many families whose homes were destroyed or damaged by the disaster will not have any documentation of income and will not be able to qualify for HTF assistance if the requirement remains effective. This waiver permits the grantee to use self-certification of income, as provided in section 93.151(d)(2), for HTF assisted units in lieu of source documentation to determine initial eligibility of persons displaced by the disaster.

Applicability: This waiver is only available to the grantee of the declared-disaster area. This waiver applies only to families displaced by the disaster (as documented by FEMA registration or other documentation acceptable to the HTF grantee) whose income documentation was destroyed or made inaccessible by the disaster and remains in effect for six months from April 11, 2023. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.252(d)(l) Utility Allowance Requirements.

Project/Activity: The City of Omaha, Nebraska, requested a waiver of 24 CFR 92.252(d)(1) to allow use of the utility allowance established by the local public housing agency (PHA) for Kennedy Square East, a HOME-assisted project.

Nature of Requirement: The regulation at 24 CFR 92.252(d)(1) requires participating jurisdictions to establish maximum monthly allowances for utilities and services (excluding telephone) and update the allowances annually. However, participating jurisdictions are not permitted to use the utility allowance established by the local public housing authority for HOME-assisted rental projects for which HOME funds were committed on or after August 23, 2013.

Granted By: Marion M. McFadden, Principal Deputy Assistant Secretary for Community Planning and Development.

Date Granted: April 21, 2023.

Reason Waived: The HOME requirements for establishing utility allowances conflict with Project Based Voucher program requirements. It is not possible to use two different utility allowances to set the rent for a single unit and it is administratively burdensome to require a project owner establish and implement different utility allowances for HOME-assisted units and non-HOME assisted units in a project.

Contact: Virginia Sardone, Director, Office of Affordable Housing Programs, Office of Community Planning and Development, Department of Housing and Urban Development, 451 Seventh Street SW, Room 7160, Washington, DC 20410, telephone (202) 708-2684.

• Regulation: 24 CFR 92.203(a)(1) and (2).

Project/Activity: Any participating jurisdiction or grantee located in the declared-disaster area (see FEMA-DR-4699-CA) affected by the severe winter storms, straight-line winds, flooding, landslides, and mudslides in California.

Nature of Requirement: These sections of the HOME regulation require initial income determinations for HOME beneficiaries by examining source documents covering the most recent two months.

Granted By: Marion M. McFadden, Principal Deputy Assistant Secretary for Community Planning and Development.

Date Granted: May 17, 2023.

Reason Waived: Many families whose housing was destroyed or damaged by the disaster will not have any documentation of income and will not be able to qualify for HOME assistance if the requirement remains effective. This waiver permits the participating jurisdiction to use self-certification of income, as provided in § 92.203(a)(1)(ii), in lieu of source documentation to determine eligibility for HOME assistance of persons displaced by the disaster.

Applicability: These waivers are only available to participating jurisdictions within the declared-disaster areas or a State participating jurisdiction of the declared-disaster areas to assist those displaced by the disaster. This waiver applies only to families displaced by the disaster (as documented by FEMA registration) whose income documentation was destroyed or made inaccessible by the disaster and remains in effect for six months from May 17, 2023. The participating jurisdiction or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.209(e), (h)(1), and (i).

Project/Activity: Projects located in the declared-disaster areas (see FEMA-DR-4699-CA).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. And section 92.209(i) requires that units occupied by TBRA recipients meet the housing quality standards established in 24 CFR 982.401.

Granted By: Marion M. McFadden, Principal Deputy Assistant Secretary for Community Planning and Development.

Date Granted: May 17, 2023.

Reason Waived: Waiving these provisions will provide the participating jurisdiction with greater flexibility to use tenant-based rental assistance as an emergency housing resource.

Applicability: All of these waivers are only available to a participating jurisdiction within the declared-disaster area or a State participating jurisdiction of the declared-disaster area providing TBRA to those displaced by the disaster, in accordance with the applicable conditions described below.

The requirement in 24 CFR 92.209(e) that the start date of a TBRA contract begin on the first day of the term of a tenant's lease is waived for TBRA contracts a participating jurisdiction executes for persons or families displaced by the disaster, as evidenced by the tenant's FEMA registration or other relevant documentation acceptable to the participating jurisdiction, for a period of 24 months after May 17, 2023. The provision of 24 CFR 92.209(h)(1) imposing the maximum amount of TBRA assistance a participating jurisdiction may provide to a family under HOME TBRA is waived for TBRA recipients who are displaced by the disaster, as evidenced by the family's FEMA registration, for a period of 24 months after May 17, 2023. The other provisions of 24 CFR 92.209(h) are not waived.

The waiver of the housing quality standards requirements at 24 CFR 92.209(i) applies to units leased by TBRA recipients who were displaced by the disaster, as evidenced by the recipient's FEMA registration, and are being assisted through a HOME TBRA program funded by the participating jurisdiction for a period of 24 months after May 17, 2023. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Office of Community Planning and Development, Department of Housing and Urban Development, 451 Seventh Street SW, Room 7160, Washington, DC 20410, telephone (202) 708-2684.

• Regulation: 24 CFR 92.222(b)(1).

Project/Activity: Any participating jurisdiction located in the declared-disaster areas (see FEMA-DR-4699-CA).

Nature of Requirement: Section 220(a) of NAHA and 24 CFR 92.218 require all HOME participating jurisdictions to contribute throughout the fiscal year to housing that qualifies as affordable housing under the HOME program. The contributions must total no less than 25 percent of the HOME funds drawn from the participating jurisdiction's HOME Investment Trust Fund Treasury account. Section 220(d)(5) of NAHA (42 U.S.C. 12750(d)(5)) and § 92.222(b) also permit HUD to reduce this matching requirement for a participating jurisdiction located in a declared-disaster area for any funds drawn from a participating jurisdiction's HOME Investment Trust Fund by up to 100 percent during any part of a fiscal year impacted by the disaster. However, § 92.222(b)(1) imposes certain conditions in granting the reduction to the matching requirement which HUD has determined there is sufficient good cause to waive.

Granted By: Marion M. McFadden, Principal Deputy Assistant Secretary for Community Planning and Development.

Date Granted: May 17, 2023.

Reason Waived: Given the urgent housing needs created by the disaster and the substantial financial impact the participating jurisdiction will face in addressing those needs, the approval of a 100 percent match reduction for participating jurisdictions in the declared-disaster areas, rather than on an case-by-case basis, will relieve administrative and financial burden on affected participating jurisdictions by expediting the process for reduction and the need to identify and provide matching contributions to HOME projects.

Applicability: This match reduction applies to funds expended by a participating jurisdiction located in the declared-disaster areas from October 1, 2022, through September 30, 2024. The waiver also applies to State-funded HOME projects located in declared-disaster areas.

Contact: Virginia Sardone, Director, Office of Affordable Housing Programs, Office of Community Planning and Development, Department of Housing and Urban Development, 451 Seventh Street SW, Room 7160, Washington, DC 20410, telephone (202) 708-2684.

• Regulation: 24 CFR 92.251.

Project/Activity: Projects located in the declared-disaster areas (see FEMA-DR-4699-CA).

Nature of Requirement: This provision requires that housing assisted with HOME funds meet property standards based on the activity undertaken, i.e., acquisition of housing including through homebuyer assistance, and state and local standards and codes or model codes for rehabilitation and new construction. Property standard requirements are waived for repair of properties damaged by the disaster.

Granted By: Marion M. McFadden, Principal Deputy Assistant Secretary for Community Planning and Development.

Date Granted: May 17, 2023.

Reason Waived: This waiver is required to enable the participating jurisdiction to meet the critical housing needs of families whose housing was damaged and families who were displaced by the disaster.

Applicability: This waiver applies only to housing units located in the declared-disaster areas which were damaged by the disaster and to which HOME funds are committed within two years of May 17, 2023. Units must meet State and local health and safety codes. The lead housing safety regulations established in 24 CFR part 35 are not waived. Also, accessibility requirements at 24 CFR 92.251(a)(2)(i) are not waived.

Contact: Virginia Sardone, Director, Office of Affordable Housing Programs, Office of Community Planning and Development, Department of Housing and Urban Development, 451 Seventh Street SW, Room 7160, Washington, DC 20410, telephone (202) 708-2684.

• Regulation: 24 CFR 93.151(c).

Project/Activity: Projects located in the declared-disaster areas (see FEMA-DR-4699-CA).

Nature of Requirement: This section of the HTF regulation requires initial income determinations for HTF beneficiaries by examining source documents covering the most recent two months.

Granted By: Marion McFadden, Principal Deputy Assistant Secretary.

Date Granted: May 17, 2023.

Reason Waived: Many families whose homes were destroyed or damaged by the disaster will not have any documentation of income and will not be able to qualify for HTF assistance if the requirement remains effective. This waiver permits the grantee to use self-certification of income, as provided in section 93.151(d)(2), for HTF assisted units in lieu of source documentation to determine initial eligibility of persons displaced by the disaster.

Applicability: This waiver is only available to the grantee of the declared-disaster area. This waiver applies only to families displaced by the disaster (as documented by FEMA registration or other documentation acceptable to the HTF grantee) whose income documentation was destroyed or made inaccessible by the disaster and remains in effect for six months from May 17, 2023. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.203(a)(1) and (2).

Project/Activity: Any participating jurisdiction or grantee located in the declared-disaster area (see FEMA-DR-4701-TN) affected by the severe storms, straight-line winds, and tornadoes in Tennessee.

Nature of Requirement: These sections of the HOME regulation require initial income determinations for HOME beneficiaries by examining source documents covering the most recent two months.

Granted By: Marion M. McFadden, Principal Deputy Assistant Secretary for Community Planning and Development.

Date Granted: May 17, 2023.

Reason Waived: Many families whose housing was destroyed or damaged by the disaster will not have any documentation of income and will not be able to qualify for HOME assistance if the requirement remains effective. This waiver permits the participating jurisdiction to use self-certification of income, as provided in § 92.203(a)(1)(ii), in lieu of source documentation to determine eligibility for HOME assistance of persons displaced by the disaster.

Applicability: These waivers are only available to participating jurisdictions within the declared-disaster areas or a State participating jurisdiction of the declared-disaster areas to assist those displaced by the disaster. This waiver applies only to families displaced by the disaster (as evidenced by FEMA registration) whose income documentation was destroyed or made inaccessible by the disaster and remains in effect for six months from May 17, 2023. The participating jurisdiction or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.209(e), (h)(1), and (i).

Project/Activity: Projects located in the declared-disaster areas (see FEMA-DR-4701-TN).

Nature of Requirement: Section 92.209(e) requires that the term of a HOME TBRA contract made with a landlord begin on the first day of the lease. Section 92.209(h)(1) limits the subsidy that a participating jurisdiction may pay toward a TBRA recipient's rent to the difference between the participating jurisdiction's rent standard for the unit size and 30 percent of the family's monthly adjusted income. And section 92.209(i) requires that units occupied by TBRA recipients meet the housing quality standards established in 24 CFR 982.401.

Granted By: Marion M. McFadden, Principal Deputy Assistant Secretary for Community Planning and Development.

Date Granted: May 17, 2023.

Reason Waived: Waiving these provisions will provide the participating jurisdiction with greater flexibility to use tenant-based rental assistance as an emergency housing resource.

Applicability: All of these waivers are only available to a participating jurisdiction within the declared-disaster area or a State participating jurisdiction of the declared-disaster area providing TBRA to those displaced by the disaster, in accordance with the applicable conditions described below.

The requirement in 24 CFR 92.209(e) that the start date of a TBRA contract begin on the first day of the term of a tenant's lease is waived for TBRA contracts a participating jurisdiction executes for persons or families displaced by the disaster, as evidenced by the tenant's FEMA registration or other relevant documentation acceptable to the participating jurisdiction, for a period of 24 months after May 17, 2023. The provision of 24 CFR 92.209(h)(1) imposing the maximum amount of TBRA assistance a participating jurisdiction may provide to a family under HOME TBRA is waived for TBRA recipients who are displaced by the disaster, as evidenced by the family's FEMA registration, for a period of 24 months after May 17, 2023. The other provisions of 24 CFR 92.209(h) are not waived. The waiver of the housing quality standards requirements at 24 CFR 92.209(i) applies to units leased by TBRA recipients who were displaced by the disaster, as evidenced by the recipient's FEMA registration, and are being assisted through a HOME TBRA program funded by the participating jurisdiction for a period of 24 months after May 17, 2023. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Office of Community Planning and Development, Department of Housing and Urban Development, 451 Seventh Street SW, Room 7160, Washington, DC 20410, telephone (202) 708-2684.

• Regulation: 24 CFR 92.222(b)(1).

Project/Activity: Any participating jurisdiction located in the declared-disaster areas (see FEMA-DR-4701-TN).

Nature of Requirement: Section 220(a) of NAHA and 24 CFR 92.218 require all HOME participating jurisdictions to contribute throughout the fiscal year to housing that qualifies as affordable housing under the HOME program. The contributions must total no less than 25 percent of the HOME funds drawn from the participating jurisdiction's HOME Investment Trust Fund Treasury account. Section 220(d)(5) of NAHA (42 U.S.C. 12750(d)(5)) and § 92.222(b) also permit HUD to reduce this matching requirement for a participating jurisdiction located in a declared-disaster area for any funds drawn from a participating jurisdiction's HOME Investment Trust Fund by up to 100 percent during any part of a fiscal year impacted by the disaster. However, § 92.222(b)(1) imposes certain conditions in granting the reduction to the matching requirement which HUD has determined there is sufficient good cause to waive.

Granted By: Marion M. McFadden, Principal Deputy Assistant Secretary for Community Planning and Development.

Date Granted: May 17, 2023.

Reason Waived: Given the urgent housing needs created by the disaster and the substantial financial impact the participating jurisdiction will face in addressing those needs, the approval of a 100 percent match reduction for participating jurisdictions in the declared-disaster areas, rather than on an case-by-case basis, will relieve administrative and financial burden on affected participating jurisdictions by expediting the process for reduction and the need to identify and provide matching contributions to HOME projects.

Applicability: This match reduction applies to funds expended by a participating jurisdiction located in the declared-disaster areas from October 1, 2022, through September 30, 2024. The waiver also applies to State-funded HOME projects located in declared-disaster areas.

Contact: Virginia Sardone, Director, Office of Affordable Housing Programs, Office of Community Planning and Development, Department of Housing and Urban Development, 451 Seventh Street SW, Room 7160, Washington, DC 20410, telephone (202) 708-2684.

• Regulation: 24 CFR 92.251.

Project/Activity: Projects located in the declared-disaster areas (see FEMA-DR-4701-TN).

Nature of Requirement: This provision requires that housing assisted with HOME funds meet property standards based on the activity undertaken, i.e., acquisition of housing including through homebuyer assistance, and state and local standards and codes or model codes for rehabilitation and new construction. Property standard requirements are waived for repair of properties damaged by the disaster.

Granted By: Marion M. McFadden, Principal Deputy Assistant Secretary for Community Planning and Development.

Date Granted: May 17, 2023.

Reason Waived: This waiver is required to enable the participating jurisdiction to meet the critical housing needs of families whose housing was damaged and families who were displaced by the disaster.

Applicability: This waiver applies only to housing units located in the declared-disaster areas which were damaged by the disaster and to which HOME funds are committed within two years of May 17, 2023. Units must meet State and local health and safety codes. The lead housing safety regulations established in 24 CFR part 35 are not waived. Also, accessibility requirements at 24 CFR 92.251(a)(2)(i) are not waived.

Contact: Virginia Sardone, Director, Office of Affordable Housing Programs, Office of Community Planning and Development, Department of Housing and Urban Development, 451 Seventh Street SW, Room 7160, Washington, DC 20410, telephone (202) 708-2684.

• Regulation: 24 CFR 93.151(c).

Project/Activity: Projects located in the declared-disaster areas (see FEMA-DR-4701-TN).

Nature of Requirement: This section of the HTF regulation requires initial income determinations for HTF beneficiaries by examining source documents covering the most recent two months.

Granted By: Marion M. McFadden, Principal Deputy Assistant Secretary for Community Planning and Development.

Date Granted: May 17, 2023.

Reason Waived: Many families whose homes were destroyed or damaged by the disaster will not have any documentation of income and will not be able to qualify for HTF assistance if the requirement remains effective. This waiver permits the grantee to use self-certification of income, as provided in section 93.151(d)(2), for HTF assisted units in lieu of source documentation to determine initial eligibility of persons displaced by the disaster.

Applicability: This waiver is only available to the grantee of the declared-disaster area. This waiver applies only to families displaced by the disaster (as documented by FEMA registration or other documentation acceptable to the HTF grantee) whose income documentation was destroyed or made inaccessible by the disaster and remains in effect for six months from May 17, 2023. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.203(a)(1) and (2).

Project/Activity: Any insular area located in the declared-disaster area (see FEMA-DR-4715-GU) affected by Typhoon Mawar.

Nature of Requirement: These sections of the HOME regulation require initial income determinations for HOME beneficiaries by examining source documents covering the most recent two months.

Granted By: Marion M. McFadden, Principal Deputy Assistant Secretary for Community Planning and Development.

Date Granted: June 26, 2023.

Reason Waived: Many families whose housing was destroyed or damaged by the disaster will not have any documentation of income and will not be able to qualify for HOME assistance if the requirement remains effective. This waiver permits the insular area to use self-certification of income, as provided in § 92.203(a)(1)(ii), in lieu of source documentation to determine eligibility for HOME assistance of persons displaced by the disaster.

Applicability: This waiver applies only to families displaced by the disaster (as evidenced by FEMA registration) whose income documentation was destroyed or made inaccessible by the disaster and remains in effect for six months from June 26, 2023. The insular area or, as appropriate, HOME project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

• Regulation: 24 CFR 92.209(e), (h)(1), and (i).

Project/Activity: Projects located in the declared-disaster area (see FEMA-DR-4715-GU).

Nature of Requirement: Section 92.209(e) requires that the term of a HOME TBRA contract made with a landlord begin on the first day of the lease. Section 92.209(h)(1) limits the subsidy that an insular area may pay toward a TBRA recipient's rent to the difference between the participating jurisdiction's rent standard for the unit size and 30 percent of the family's monthly adjusted income. And section 92.209(i) requires that units occupied by TBRA recipients meet the housing quality standards established in 24 CFR 982.401.

Granted By: Marion M. McFadden, Principal Deputy Assistant Secretary for Community Planning and Development.

Date Granted: June 26, 2023.

Reason Waived: Waiving these provisions will provide the insular area with greater flexibility to use tenant-based rental assistance as an emergency housing resource.

Applicability: All of these waivers are only available to the insular area in accordance with the applicable conditions described below.

The requirement in 24 CFR 92.209(e) that the start date of a TBRA contract begin on the first day of the term of a tenant's lease is waived for TBRA contracts the insular area executes for persons or families displaced by the disaster, as evidenced by the tenant's FEMA registration or other relevant documentation acceptable to the insular area, for a period of 24 months after June 26, 2023. The provision of 24 CFR 92.209(h)(1) imposing the maximum amount of TBRA assistance the insular area may provide to a family under HOME TBRA is waived for TBRA recipients who are displaced by the disaster, as evidenced by the family's FEMA registration, for a period of 24 months after June 26, 2023. The other provisions of 24 CFR 92.209(h) are not waived. The waiver of the housing quality standards requirements at 24 CFR 92.209(i) applies to units leased by TBRA recipients who were displaced by the disaster, as evidenced by the recipient's FEMA registration, and are being assisted through a HOME TBRA program funded by the insular area for a period of 24 months after June 26, 2023. Units must meet any applicable State and local health and safety codes and requirements. The lead safe housing requirements of 24 CFR part 35, subpart M, made applicable to units leased by recipients of HOME TBRA by the HOME regulation at 24 CFR 92.355, are not waived.

Contact: Virginia Sardone, Director, Office of Affordable Housing Programs, Office of Community Planning and Development, Department of Housing and Urban Development, 451 Seventh Street SW, Room 7160, Washington, DC 20410, telephone (202) 708-2684.

• Regulation: 24 CFR 92.251.

Project/Activity: Projects located in the declared-disaster area (see FEMA-DR-4715-GU).

Nature of Requirement: This provision requires that housing assisted with HOME funds meet property standards based on the activity undertaken, i.e., acquisition of housing including through homebuyer assistance, and state and local standards and codes or model codes for rehabilitation and new construction. Property standard requirements are waived for repair of properties damaged by the disaster.

Granted By: Marion M. McFadden, Principal Deputy Assistant Secretary for Community Planning and Development.

Date Granted: June 26, 2023.

Reason Waived: This waiver is required to enable the insular area to meet the critical housing needs of families whose housing was damaged and families who were displaced by the disaster.

Applicability: This waiver applies only to housing units which were damaged by the disaster and to which HOME funds are committed within two years of June 26, 2023. Units must meet State and local health and safety codes. The lead housing safety regulations established in 24 CFR part 35 are not waived. Also, accessibility requirements at 24 CFR 92.251(a)(2)(i) are not waived.

Contact: Virginia Sardone, Director, Office of Affordable Housing Programs, Office of Community Planning and Development, Department of Housing and Urban Development, 451 Seventh Street SW, Room 7160, Washington, DC 20410, telephone (202) 708-2684.

• Regulation: 24 CFR 93.151(c).

Project/Activity: Projects located in the declared-disaster area (see FEMA-DR-4715-GU).

Nature of Requirement: This section of the HTF regulation requires initial income determinations for HTF beneficiaries by examining source documents covering the most recent two months.

Granted By: Marion M. McFadden, Principal Deputy Assistant Secretary for Community Planning and Development.

Date Granted: June 26, 2023.

Reason Waived: Many families whose homes were destroyed or damaged by the disaster will not have any documentation of income and will not be able to qualify for HTF assistance if the requirement remains effective. This waiver permits the grantee to use self-certification of income, as provided in section 93.151(d)(2), for HTF assisted units in lieu of source documentation to determine initial eligibility of persons displaced by the disaster.

Applicability: This waiver applies only to families displaced by the disaster (as documented by FEMA registration or other documentation acceptable to the insular area) whose income documentation was destroyed or made inaccessible by the disaster and remains in effect for six months from June 26, 2023. The grantee or, as appropriate, HTF project owner, is required to maintain: (1) a record of FEMA registration to demonstrate that a family was displaced by the disaster; and (2) a statement signed by appropriate family members certifying to the family's size and annual income and that the family's income documentation was destroyed or is inaccessible.

Contact: Virginia Sardone, Director, Office of Affordable Housing Programs, Office of Community Planning and Development, Department of Housing and Urban Development, 451 Seventh Street SW, Room 7160, Washington, DC 20410, telephone (202) 708-2684.

Modified Waiver and Alternative Requirement To Provide Rental Assistance

• Regulation: Alternative requirement to 42 U.S.C. 5305(a)(8) in section II.B.6. of the Community Development Block Grant Disaster Recovery (CDBG-DR) Consolidated Notice published in the Federal Register on February 3, 2022, at 87 FR 6364 (the “February 2022 Notice”), May 24, 2022 at 87 FR 31636 (the “May 2022 Notice”), and January 18, 2023 at 88 FR 3198 (the “January 2023 Notice”)

Project/Activity: The use of CDBG-DR funds for emergency grant payments as tenant-based and other forms of rental assistance to households impacted by disasters eligible under Public Laws 117-43 and 117-180 (together, the “Appropriations Acts”).

Nature of Requirement: The February 2022, May 2022, and January 2023 notices published in the Federal Register included the Consolidated Notice as Appendix B and made the Consolidated Notice applicable to CDBG-DR allocations identified in those notices. In the Consolidated Notice, HUD waived and modified 42 U.S.C. 5305(a)(8) to impose an alternative requirement for the use of CDBG-DR funds for emergency grant payments to extend interim mortgage assistance from three months to up to twenty months. The States of Louisiana, New Jersey, and Oregon received CDBG-DR grants subject to the February 2022, May 2022, or January 2023 Federal Register notice and requested a waiver and further modification of 42 U.S.C. 5305(a)(8) to also provide emergency grant payments as tenant-based and other forms of rental assistance to households impacted by disasters eligible under the Appropriations Acts. Granted By: Adrianne Todman, Deputy Secretary.

Date Granted: May 18, 2023.

Reason Waived: After reviewing each grantee's request and based on the good cause provided, HUD waived and further modified 42 U.S.C. 5305(a)(8) to expand the definition of public service to include the following activity: provision of rental assistance (e.g. rent, security deposits, and utility deposits) and utility payments for up to 24 months for the States of Louisiana, New Jersey, and Oregon.

The goals of this waiver and alternative requirement are to prevent and minimize the time households are experiencing or are at risk of experiencing homelessness as a result of the qualifying disaster and to provide additional time to stabilize persons or households in permanent housing by providing rental assistance, rapid rehousing services, and/or intermediate housing (e.g., including for homeowners during repairs).

Applicability: This waiver and modified alternative requirement is applicable to the State of Louisiana, State of New Jersey, and State of Oregon CDBG-DR funds appropriated for major disasters occurring in 2020 and 2021 under the Appropriations Acts. The alternative requirement for the provision of rental assistance (e.g. rent, security deposits, and utility deposits) and utility payments for up to 24 months is subject to the following requirements: the activity is subject to the 15 percent cap on public services and no beneficiary may receive more than a total of 24 months (for Louisiana, New Jersey, Oregon) of this type of assistance, HUD may further extend the waiver and alternative requirements administratively, if requested by the grantees and good cause for such an extension exists at that time, and a homeowner receiving any form of CDBG-DR interim mortgage assistance is not eligible for rental assistance or utility payments as authorized by this waiver and alternative requirement. This alternative requirement does not relieve grantees of the duty to comply with other applicable requirements relating to the temporary relocation or permanent displacement of persons.

Contact: Tennille S. Parker, Director, Office of Disaster Recovery, Office of Community Planning and Development, Department of Housing and Urban Development, 451 Seventh Street SW, Room 7282, Washington, DC 20410, telephone (202) 708-3587.

Reimbursement Extension Waiver and Alternative Requirement

• Regulation: Section III.F.5 of the Community Development Block Grant disaster recovery (CDBG-DR) Consolidated Notice published in the Federal Register on February 3, 2022, at 87 FR 6364 (the “February 2022 Notice”), May 24, 2022 at 87 FR 31636 (the “May 2022 Notice”), and January 18, 2023 at 88 FR 3198 (the “January 2023 Notice”).

Project/Activity: CDBG-DR funds allocated to the State of Louisiana pursuant to the Disaster Relief Supplemental Appropriations Act, 2022 (Pub. L. 117-43) approved September 30, 2021, for major disasters occurring in 2020 and 2021, and the Continuing Appropriations Act, 2023 (Pub. L. 117-180) approved September 30, 2022, for major disasters occurring in 2021 (together, the “Appropriations Acts”).

Nature of Requirement: The February 2022, May 2022, and January 2023 notices published in the Federal Register included the Consolidated Notice as Appendix B and made the Consolidated Notice applicable to the CDBG-DR allocations identified in those notices. Specifically, paragraph III.F.5 of the Consolidated Notice permits grantees to charge to grants the pre-award and pre-application costs of homeowners, renters, businesses, and other qualifying entities for eligible costs these applicants have incurred in response to an eligible disaster covered under the grantee's applicable Federal Register notices. In addition to other requirements, paragraph III.F.5 stipulates that grantees may charge to the grant the eligible pre-application costs of individuals and private entities related to single family, multifamily, and nonresidential buildings, only if (1) the person or private entity incurred the expenses within one year after the applicability date of the grantee's Allocation Announcement Notice (or within one year after the date of the disaster, whichever is later); and (2) the person or entity pays for the cost before the date on which the person or entity applies for CDBG-DR assistance. The Department received a request and justification from the State of Louisiana to extend the February 8, 2023 deadline to December 31, 2023 for eligible pre-application costs.

Granted By: Adrianne Todman, Deputy Secretary.

Date Granted: June 28, 2023.

Reason Waived: After reviewing the grantee's request, the Department determined there was good cause to modify the alternative requirement in paragraph IV.B.1. of the January 2023 notice to change the February 8, 2023 deadline to December 31, 2023 for all funds provided to Louisiana under the Appropriations Acts. The waiver and alternative requireiment will allow the State of Louisiana to to better track expenses, avoid confusion, and apply a uniform time frame for reimbursement of all pre-application costs for 2020 and 2021 disasters.

Applicability: This waiver is applicable to the CDBG-DR funds appropriated for major disasters occurring in 2020 and 2021 under the Appropriations Acts for the State of Louisiana only. I last date that persons or private entities could incur otherwise allowable, reimbursable pre-application costs is December 31, 2023, or the date of application to the State for assistance, whichever is earlier. For any applicant that submits an application to the State prior to the reimbursement deadline of December 31, 2023, the period to incur allowable, reimbursable pre-application costs would be from the date of the initial disaster to the date of the application. When reimbursing eligible pre-award and pre-application costs of homeowners, renters, businesses, and other qualifying entities, the State is reminded to follow all other requirements described in paragraph III.F.5 of the Consolidated Notice.

Contact: Tennille S. Parker, Director, Office of Disaster Recovery, Office of Community Planning and Development, Department of Housing and Urban Development, 451 Seventh Street SW, Room 7282, Washington, DC 20410, telephone (202) 708-3587.

Waiver and Alternative Requirement for One-for-One Replacement Housing Requirements for the Cdbg-Dr Mitigation Set-Aside

• Regulation: One-for-one replacement requirements in section 104(d)(2)(A)(i) and (ii) and (d)(3) of the Housing and Community Development Act of 1974 (HCDA) (42 U.S.C 5304(d)(2)(A)(i) and (ii) and (d)(3) and 24 CFR 42.375 in section IV.F.1. of the Consolidated Notice published in the Federal Register on February 3, 2022, at 87 FR 6364 (the “February 2022 Notice”), May 24, 2022 at 87 FR 31636 (the “May 2022 Notice”), and January 18, 2023, at 88 FR 3198 (the “January 2023 Notice”).

Project/Activity: Community Development Block Grant disaster recovery (CDBG-DR) funds allocated to the State of Louisiana pursuant to the Disaster Relief Supplemental Appropriations Act, 2022 (Pub. L. 117-43) approved September 30, 2021, for major disasters occurring in 2020 and 2021, and the Continuing Appropriations Act, 2023 (Pub. L. 117-180) approved September 30, 2022, for major disasters occurring in 2021 (together, the “Appropriations Acts”).

Nature of Requirement: The Appropriations Acts require HUD to include in any allocation of CDBG-DR funds for unmet needs an additional amount of 15 percent for mitigation activities (the “CDBG-DR mitigation set-aside”). The February 2022, May 2022, and January 2023 notices published in the Federal Register govern the use of funds allocated from the Appropriations Acts. These Federal Register notices included the Consolidated Notice as Appendix B and made the Consolidated Notice applicable to the CDBG-DR allocations identified in those notices.

Specifically, section IV.F.1. of the Consolidated Notice waives the one-for-one replacement requirements at section 104(d)(2)(A)(i) and (ii) and 104(d)(3) of the HCDA (42 U.S.C 5304(d)(2)(A)(i) and (ii) and (d)(3)) and 24 CFR 42.375 for owner-occupied lower-income dwelling units that are damaged by the disaster and not suitable for rehabilitation. Section 104(d) one-for-one replacement housing requirements apply to occupied and vacant occupiable lower-income dwelling units demolished or converted in connection with a CDBG assisted activity. Section 104(d) and 24 CFR 42.375 require that all occupied and vacant occupiable lower-income dwelling units that are demolished or converted to a use other than as lower-income dwelling units in connection with a CDBG-assisted activity must be replaced with comparable lower-income dwelling units. Section 104(d) and 24 CFR 42.375 also require that before the CDBG recipient commits funds for any activity that will directly result in the demolition of lower-income dwelling units or the conversion of lower-income dwelling units to another use, the recipient must make a public submission that describes the project and how the one-for-one replacement requirements will be met, along with a written submission to the HUD field office. This waiver expands the waiver provisions of section IV.F.1. of the Consolidated Notice to exempt all owner-occupied lower-income dwelling units funded under the relevant CDBG-DR mitigation set aside for the State of Louisiana that meet the grantee's definition of “not suitable for rehabilitation” from the one-for-one replacement housing requirements of 24 CFR 42.375.

Granted By: Adrianne Todman, Deputy Secretary.

Date Granted: June 28, 2023.

Reason Waived: After reviewing the grantee's request, the Department finds there is good cause to waive the one-for-one replacement requirements in section 104(d)(2)(A)(i) and (ii) and (d)(3) (of the Housing and Community Development Act of 1974 (HCDA) 42 U.S.C 5304(d)(2)(A)(i) and (ii) and (d)(3)) and 24 CFR 42.375 for the grantee's CDBG-DR mitigation set-aside only. One-for-one replacement housing requirements at section 104(d)(2)(A)(i) and (ii) and 104(d)(3) of the HCDA (42 U.S.C 5304(d)(2)(A)(i) and (ii) and (d)(3)) and 24 CFR 42.375 are waived for all demolished or converted lower income dwelling units that are eligible through the CDBG-DR mitigation set-aside to permanently move people and/or property out of harm's way as part of a housing mitigation activity, such as a buyout, that addresses a risk identified in a grantee's risk-based mitigation needs assessment.

This waiver exempts lower-income dwelling units that meet the grantee's definition of “not suitable for replacement” from the one-for-one replacement requirements, since activities funded by the CDBG-DR mitigation set-aside may be removing housing units that are not damaged by the qualified disaster but still are necessary to address mitigation risk. This waiver and alternative requirement will not apply retroactively and will only apply to the eligible CDBG-DR mitigation set-aside activities identified in the February 2022 Notice, the May 2022 Notice, and January 2023 Notice.

Applicability: This waiver is applicable to the CDBG-DR funds appropriated for major disasters occurring in 2020 and 2021 under the Appropriations Acts for the State of Louisiana only. This waiver exempts lower-income dwelling units that meet the grantee's definition of “not suitable for replacement” from the one-for-one replacement requirements, since activities funded by the CDBG-DR mitigation set-aside may be removing housing units that are not damaged by the qualified disaster but still are necessary to address mitigation risk. This waiver and alternative requirement will not apply retroactively and will only apply to the eligible CDBG-DR mitigation set-aside activities identified in the February 2022 Notice, the May 2022 Notice, and January 2023 Notice.

Before carrying out activities under the CDBG-DR mitigation set-aside that may be subject to the one-for-one replacement requirements, the grantee must define “not suitable for replacement” in its action plan or in policies and procedures governing these activities. When working to move people and/or property out of harm's way, requiring replacement housing units to be located within the same neighborhood can be inconsistent with the purposes of the CDBG-DR mitigation set-aside and is not always feasible because these areas have been identified to have current and future disaster risks, as described in the grantee's mitigation needs assessment.

Even when using the CDBG-DR mitigation set-aside, the grantee must reassess post-disaster population and housing needs relative to the mitigation needs assessment to determine the appropriate type and amount of lower-income dwelling units to rehabilitate or reconstruct. The grantee must include this analysis in its program files with a description of how the CDBG-DR mitigation set-aside funds or other sources, including CDBG-DR funds, will be used to address housing and mitigation needs for residents of lower-income dwelling units. The grantee should note that the demolition and/or disposition of public housing units continue to be subject to section 18 of the United States Housing Act of 1937, as amended, and 24 CFR part 970.

Contact: Tennille S. Parker, Director, Office of Disaster Recovery, Office of Community Planning and Development, Department of Housing and Urban Development, 451 Seventh Street SW, Room 7282, Washington, DC 20410, telephone (202) 708-3587.

• Regulation: 24 CFR 91.105(c)(2) and (k), 24 CFR 91.115(c)(2) and (i), and 24 CFR 91.401.

Project/Activity: The State of Arkansas and any HUD Community Planning and Development (CPD) grantee located in the counties included in the declared-disaster area (see DR-4698-AR) seeking to expedite action in response to severe storms and tornadoes, upon notification to the Community Planning and Development Director in its respective HUD Field Office. This authority is in effect for grantees in the areas covered by the major disaster declaration under title IV of the Robert T. Stafford Disaster Relief and Emergency Assistance Act (Stafford Act), DR-4698-AR, dated April 2, 2023, as may be amended (the “Arkansas declared-disaster areas”) and is limited to facilitating preparation of substantial amendments to FY 2022 and prior year plans.

Nature of Requirement: The regulations at 24 CFR 91.105(c)(2) and (k); 24 CFR 91.115(c)(2) and (i); and 24 CFR 91.401 require a 30-day public comment period in the development of a consolidated plan and prior to the implementation of a substantial amendment.

Granted By: Marion McFadden, Principal Deputy Assistant Secretary for Community Planning and Development.

Date Granted: April 11, 2023.

Reason Waived: Several CPD grantees were affected by severe storms and tornadoes that hit Arkansas and received a major disaster declaration on April 2, 2023. As a result of substantial property loss and destruction, many individuals and families residing in the Arkansas declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k); 24 CFR 91.115(c)(2) and (i).

Project/Activity: The State of Arkansas and any HUD Community Planning and Development (CPD) grantee located in the counties included in the Arkansas declared-disaster areas (see DR-4698-AR) seeking to expedite action in response to severe storms and tornadoes, upon notification to the Community Planning and Development Director in its respective HUD Field Office. This authority is in effect for grantees within the Arkansas declared-disaster areas and is limited to facilitating preparation of substantial amendments to FY 2022 and prior year plans.

Nature of Requirement: The regulations at 24 CFR 91.105(c)(2) and (k) and 24 CFR 91.115(c)(2) and (i) require the grantee to follow its citizen participation plan to provide citizens with reasonable notice and opportunity to comment. The citizen participation plan must state how reasonable notice and opportunity to comment will be given.

Granted By: Marion McFadden, Principal Deputy Assistant Secretary for Community Planning and Development.

Date Granted: April 11, 2023.

Reason Waived: As stated above, several CPD grantees were affected by severe storms and tornadoes that hit Arkansas and received a major disaster declaration on April 2, 2023. As a result of substantial property loss and destruction, many individuals and families residing in the Arkansas declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Office of Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with Arkansas severe storms and tornadoes.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: April 11, 2023.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with severe storms and tornadoes. The waiver will allow CDBG grantees, including grantees providing assistance to evacuees outside the Arkansas declared-disaster areas, to pay for the basic daily needs of individuals and families affected by the severe tornadoes and storms on an interim basis. This authority is in effect through the end of the grantee's 2023 program year. This waiver aligns with waivers currently in effect for CDBG coronavirus (CDBG-CV) grants. The six-month periods allowed by waiver for CDBG and CDBG-CV shall not be used consecutively for the same beneficiary.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k), 24 CFR 91.115(c)(2) and (i), and 24 CFR 91.401.

Project/Activity: The State of Tennessee and any HUD Community Planning and Development (CPD) grantee located in the counties included in the declared-disaster area (see DR-4701-TN) seeking to expedite action in response to Tennessee severe storms, straight-line winds, and tornadoes, upon notification to the Community Planning and Development Director in its respective HUD Field Office. This authority is in effect for grantees in the areas covered by the major disaster declaration under title IV of the Robert T. Stafford Disaster Relief and Emergency Assistance Act (Stafford Act), DR-4701-TN, dated April 7, 2023, as may be amended (the “Tennessee declared-disaster areas”) and is limited to facilitating preparation of substantial amendments to FY 2022 and prior year plans.

Nature of Requirement: The regulations at 24 CFR 91.105(c)(2) and (k); 24 CFR 91.115(c)(2) and (i); and 24 CFR 91.401 require a 30-day public comment period in the development of a consolidated plan and prior to the implementation of a substantial amendment.

Granted By: Marion McFadden, Principal Deputy Assistant Secretary for Community Planning and Development.

Date Granted: May 17, 2023.

Reason Waived: Several CPD grantees were affected by severe storms, straight-line winds, and tornadoes that hit Tennessee and received a disaster declaration April 7, 2023. As a result of substantial property loss and destruction, many individuals and families residing in the Tennessee declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k); 24 CFR 91.115(c)(2) and (i).

Project/Activity: The State of Tennessee and any HUD Community Planning and Development (CPD) grantee located in the counties included in the Tennessee declared-disaster areas (see DR-4701-TN) seeking to expedite action in response to severe storms, straight-line winds, and tornadoes, upon notification to the Community Planning and Development Director in its respective HUD Field Office. This authority is in effect for grantees within the Tennessee declared-disaster areas and is limited to facilitating preparation of substantial amendments to FY 2023 and prior year plans.

Nature of Requirement: The regulations at 24 CFR 91.105(c)(2) and (k) and 24 CFR 91.115(c)(2) and (i) require the grantee to follow its citizen participation plan to provide citizens with reasonable notice and opportunity to comment. The citizen participation plan must state how reasonable notice and opportunity to comment will be given.

Granted By: Marion McFadden, Principal Deputy Assistant Secretary for Community Planning and Development.

Date Granted: May 17, 2023.

Reason Waived: As stated above, several CPD grantees were affected by severe storms, straight-line winds, and tornadoes that hit Tennessee and received a major disaster declaration on April 7, 2023. As a result of substantial property loss and destruction, many individuals and families residing in the Tennessee declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Office of Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with Tennessee severe storms, straight-line winds, and tornadoes.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: May 17, 2023.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with severe storms, straight-line winds, and tornadoes. The waiver will allow CDBG grantees, including grantees providing assistance to evacuees outside the Tennessee declared-disaster areas, to pay for the basic daily needs of individuals and families affected by the severe tornadoes and storms on an interim basis. This authority is in effect through the end of the grantee's 2023 program year. This waiver aligns with waivers currently in effect for CDBG coronavirus (CDBG-CV) grants. The six-month periods allowed by waiver for CDBG and CDBG-CV shall not be used consecutively for the same beneficiary.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k), 24 CFR 91.115(c)(2) and (i), and 24 CFR 91.401.

Project/Activity: The State of California and any HUD Community Planning and Development (CPD) grantee located in the counties included in the declared-disaster area seeking to expedite action in response to California severe winter storms, straight-line winds, flooding, landslides, and mudslides, upon notification to the Community Planning and Development Director in its respective HUD Field Office. This authority is in effect for grantees in the areas covered by the major disaster declaration under title IV of the Robert T. Stafford Disaster Relief and Emergency Assistance Act (Stafford Act), DR-4699-CA, dated April 3, 2023, as may be amended (the “California declared-disaster areas”) and is limited to facilitating preparation of substantial amendments to FY 2023 and prior year plans.

Nature of Requirement: The regulations at 24 CFR 91.105(c)(2) and (k); 24 CFR 91.115(c)(2) and (i); and 24 CFR 91.401 require a 30-day public comment period in the development of a consolidated plan and prior to the implementation of a substantial amendment.

Granted By: Marion McFadden, Principal Deputy Assistant Secretary for Community Planning and Development.

Date Granted: May 17, 2023.

Reason Waived: Several CPD grantees were affected by severe winter storms, straight-line winds, flooding, landslides, and mudslides and received a major disaster declaration on April 3, 2023. As a result of substantial property loss and destruction, many individuals and families residing in the California declared-disaster areas were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Office Community Planning and Development, Department of Housing and Urban Development, 451 Seventh Street SW, Room 7282, Washington, DC 20410, telephone (202) 402-4211.

• Regulation: 24 CFR 91.105(c)(2) and (k); 24 CFR 91.115(c)(2) and (i).

Project/Activity: The State of California and any HUD Community Planning and Development (CPD) grantee located in the counties included in the California declared-disaster areas (see DR-4699-CA) seeking to expedite action in response to severe winter storms, straight-line winds, flooding, landslides, and mudslides, upon notification to the Community Planning and Development Director in its respective HUD Field Office. This authority is in effect for grantees within the California declared-disaster areas and is limited to facilitating preparation of substantial amendments to FY 2022 and prior year plans.

Nature of Requirement: The regulations at 24 CFR 91.105(c)(2) and (k) and 24 CFR 91.115(c)(2) and (i) require the grantee to follow its citizen participation plan to provide citizens with reasonable notice and opportunity to comment. The citizen participation plan must state how reasonable notice and opportunity to comment will be given.

Granted By: Marion McFadden, Principal Deputy Assistant Secretary for Community Planning and Development.

Date Granted: May 17, 2023.

Reason Waived: As stated above, several CPD grantees were affected by severe winter storms, straight-line winds, flooding, landslides, and mudslides that received a major disaster declaration on April 3, 2023. As a result of substantial property loss and destruction, many individuals and families residing in the California declared-disaster areas were displaced from their homes, including beneficiaries of various CPD programs, and families eligible to receive CPD program assistance. The waiver granted will allow grantees to determine what constitutes reasonable notice and opportunity to comment given their circumstances and provide that level of notice and opportunity to comment when amending prior year plans in response to the disaster.

Contact: Robert C. Peterson, Director, State and Small Cities Division, Community Planning and Development, Department of Housing and Urban Development, 451 Seventh Street SW, Room 7282, Washington, DC 20410, telephone (202) 402-4211.

• Regulation: 24 CFR 570.207(b)(4).

Project/Activity: All CDBG grantees located within and outside declared disaster areas assisting persons and families who have registered with FEMA in connection with California severe winter storms, straight-line winds, flooding, landslides, and mudslides.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: May 17, 2023.

Reason Waived: HUD waives the provisions of 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with severe storms, straight-line winds, and tornadoes. The waiver will allow CDBG grantees, including grantees providing assistance to evacuees outside the California declared-disaster areas, to pay for the basic daily needs of individuals and families affected by the severe winter storms, straight-line winds, flooding, landslides, and mudslides on an interim basis. This authority is in effect through the end of the grantee's 2023 program year. This waiver aligns with waivers currently in effect for CDBG coronavirus (CDBG-CV) grants. The six-month periods allowed by waiver for CDBG and CDBG-CV shall not be used consecutively for the same beneficiary.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k) and 24 CFR 570.440(i)(2).

Project/Activity: Guam's interest in expediting action in response to Typhoon Mawar, upon notification to the Community Planning and Development Director in its respective HUD Field Office. This authority is in effect for Guam, which received a major disaster declaration under title IV of the Robert T. Stafford Disaster Relief and Emergency Assistance Act (Stafford Act), DR-4715-GU, dated May 25, 2023, as may be amended (the “Guam declared-disaster areas”) and is limited to facilitating preparation of substantial amendments to FY 2023 and prior year plans.

Nature of Requirement: The regulations at 24 CFR 91.105(c)(2) and (k) and 24 CFR 570.440(i)(2) require a 30-day public comment period in the development of a consolidated plan and prior to the implementation of a substantial amendment.

Granted By: Marion McFadden, Principal Deputy Assistant Secretary for Community Planning and Development.

Date Granted: June 26, 2023.

Reason Waived: Guam was severely affected by Typhoon Mawar that hit the island, and received a major disaster declaration on May 25, 2023. As a result of substantial property loss and destruction, many individuals and families residing in the Guam were displaced from their homes, including beneficiaries of various CPD programs, and families eligible to receive CPD program assistance. The waiver granted will allow grantees to expedite recovery efforts for low- and moderate-income residents affected by the property loss and destruction resulting from this event.

Contact: Robert C. Peterson, Director, State and Small Cities Division, Office of Community Planning and Development, Department of Housing and Urban Development, 451 Seventh Street SW, Room 7282, Washington, DC 20410, telephone (202) 402-4211.

• Regulation: 24 CFR 91.105(c)(2) and (k) and 24 CFR 570.441(b).

Project/Activity: Guam's interest in expediting action in response to Typhoon Mawar, upon notification to the Community Planning and Development Director in its respective HUD Field Office. This authority is in effect for Guam and is limited to facilitating preparation of substantial amendments to FY 2023 and prior year plans.

Nature of Requirement: The regulations 24 CFR 91.105(c)(2) and (k) and 24 CFR 570.441(b) require the grantee to follow its citizen participation plan to provide citizens with reasonable notice and opportunity to comment. The citizen participation plan must state how reasonable notice and opportunity to comment will be given.

Granted By: Marion McFadden, Principal Deputy Assistant Secretary for Community Planning and Development.

Date Granted: June 26, 2023.

Reason Waived: As stated above, Guam was severely affected by Typhoon Mawar and received a major disaster declaration on May 25, 2023. As a result of substantial property loss and destruction, many individuals and families residing in the Guam were displaced from their homes, including beneficiaries of various CPD programs, and families eligible to receive CPD program assistance. The waiver granted will allow Guam to determine what constitutes reasonable notice and opportunity to comment given their circumstances and provide that level of notice and opportunity to comment when amending prior year plans in response to the disaster.

Contact: Robert C. Peterson, Director, State and Small Cities Division, Community Planning and Development, Department of Housing and Urban Development, 451 Seventh Street SW, Room 7282, Washington, DC 20410, telephone (202) 402-4211.

• Regulation: 24 CFR 570.420(b)(3)(ii) and 24 CFR 570.207(b)(4).

Project/Activity: Guam's assistance with persons and families who have registered with FEMA in connection with Typhoon Mawar.

Nature of Requirement: The CDBG regulations at 24 CFR 570.207(b)(4) prohibit income payments, but permit emergency grant payments for three months. “Income payments” means a series of subsistence-type grant payments made to an individual or family for items such as food, clothing, housing (rent or mortgage), or utilities. Emergency grant payments made over a period of up to three consecutive months to the providers of such items and services on behalf of an individual or family are eligible public services.

Granted By: Marion McFadden, Principal Deputy Assistant Secretary for Community Planning and Development.

Date Granted: June 26, 2023.

Reason Waived: HUD waives the provisions of 24 CFR 570.420(b)(3)(ii) and 24 CFR 570.207(b)(4) to permit emergency grant payments for items such as food, clothing, housing (rent or mortgage), or utilities for up to six consecutive months. While this waiver allows emergency grant payments to be made for up to six consecutive months, the payments must still be made to service providers as opposed to the affected individuals or families. Many individuals and families have been forced to abandon their homes due to the damage associated with Typhoon Mawar. The waiver will allow Guam to pay for the basic daily needs of individuals and families affected by the typhoon on an interim basis. This authority is in effect through the end of the Guam's 2023 program year. This waiver aligns with waivers currently in effect for CDBG coronavirus (CDBG-CV) grants. The six-month periods allowed by waiver for CDBG and CDBG-CV shall not be used consecutively for the same beneficiary.

Contact: Robert C. Peterson, Director, State and Small Cities Division, Office of Community Planning and Development, Department of Housing and Urban Development, 451 Seventh Street SW, Room 7282, Washington, DC 20410, telephone (202) 402-4211.

Mega-Waiver for Arkansas Severe Storms and Tornadoes—Housing Opportunities for Persons With AIDS (HOPWA) Program

On April 11, 2023, HUD issued an updated memorandum offering waivers of certain statutory and regulatory requirements associated with several Community Planning and Development (CPD) grant programs to address damage and facilitate recovery from Arkansas severe storms and tornadoes in areas covered by a major disaster declaration under Title IV of the Robert T. Stafford Disaster Relief and Emergency Assistance Act (Stafford Act), DR-4698-AR, dated April 2, 2023, as may be amended (the “declared-disaster areas”).

• Regulation: 24 CFR 574.310(b)(2), Habitability Standards.

Project/Activity: The habitability requirements in 24 CFR 574.310(b)(2) are waived for units in the declared-disaster areas that are or will be occupied by HOPWA-eligible households, provided that the units are free of life-threatening conditions as defined in Notice PIH 2017-20 (HA). Grantees must ensure that these units meet HOPWA habitability standards within 60 days of the date of April 11, 2023.

Nature of Requirement: Section 574.310(b)(2) of the HOPWA regulations provides minimum habitability standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: April 11, 2023.

Reason Waived: This waiver is required to enable grantees and project sponsors to expeditiously meet the critical housing needs of the many eligible families in the declared disaster areas.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.320(a)(1), Maximum Subsidy.

Project/Activity: Provided that the maximum subsidy is otherwise calculated as provided by § 574.320(a)(1), the requirement to use the rent standard as provided by § 574.320(a)(1) is waived. This waiver applies to the calculation of rental assistance for any rent amount that takes effect during the two-year period beginning on April 11, 2023, for any individual or family who is renting or executes a lease for a unit in the declared-disaster areas. This waiver would apply for twelve months from the date of the execution of the lease. Grantees and project sponsors must still ensure the reasonableness of rent charged for units in the declared-disaster areas in accordance with § 574.320(a)(3).

Nature of Requirement: The amount of grant funds used to pay monthly assistance for an eligible person may not exceed the difference between: (i) The lower of the rent standard or reasonable rent for the unit; and (ii) The resident's rent payment calculated under § 574.310(d).

Granted By: Marion McFadden, Principal Deputy Assistant Secretary for Community Planning and Development.

Date Granted: April 11, 2023.

Reason Waived: Permitting the maximum rental assistance subsidy to be calculated under 24 CFR 574.320(a)(1) without regard to the rent standard would enable HOPWA grantees to expedite efforts to meet the critical housing needs of low-income people living with HIV and their families in the declared-disaster areas. Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public 16 Housing Agencies To Assist With Recovery and Relief Efforts on Behalf of Families Affected by Presidentially Declared Disasters, 87 FR 469 (Section 8 Disaster Notice) provides additional rent standard flexibility in presidentially declared disaster areas. Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the requirement to use the rent standard in the calculation of the maximum monthly rental assistance amount under § 574.320(a)(1), while still requiring that the unit be rent reasonable in accordance with § 574.320(a)(3), will make more units immediately available to HOPWA eligible individuals and families in need of permanent housing in the declared-disaster areas and will help to quickly stabilize their housing and health.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of April 11, 2023.

Nature of Requirement: Each grantee must maintain records to document compliance with HOPWA requirements, which includes determining the eligibility of a family to receive HOPWA assistance.

Granted By: Marion McFadden, Principal Deputy Assistant Secretary for Community Planning and Development.

Date Granted: April 11, 2023.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, lisa.a.steinhauer@hud.gov.

Mega-Waiver for Tennessee Severe Storms, Straight-Line Winds, and Tornadoes—Housing Opportunities for Persons With AIDS (HOPWA) Program

On May 17, 2023, HUD issued a memorandum offering waivers of certain statutory and regulatory requirements associated with several Community Planning and Development (CPD) grant programs to address damage and facilitate recovery from Tennessee severe storms, straight-line winds, and tornadoes in areas covered by a major disaster declaration under Title IV of the Robert T. Stafford Disaster Relief and Emergency Assistance Act (Stafford Act), DR-4701-TN, dated April 7, 2023, as may be amended (the “declared-disaster areas”).

• Regulation: 24 CFR 574.310(b)(2), Habitability Standards.

Project/Activity: The habitability requirements in 24 CFR 574.310(b)(2) are waived for units in the declared-disaster areas that are or will be occupied by HOPWA-eligible households, provided that the units are free of life-threatening conditions as defined in Notice PIH 2017-20 (HA). Grantees must ensure that these units meet HOPWA habitability standards within 60 days of the date of May 17, 2023.

Nature of Requirement: Section 574.310(b)(2) of the HOPWA regulations provides minimum habitability standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: May 17, 2023.

Reason Waived: This waiver is required to enable grantees and project sponsors to expeditiously meet the critical housing needs of the many eligible families in the declared disaster areas.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.320(a)(1), Maximum Subsidy.

Project/Activity: Provided that the maximum subsidy is otherwise calculated as provided by § 574.320(a)(1), the requirement to use the rent standard as provided by § 574.320(a)(1) is waived. This waiver applies to the calculation of rental assistance for any rent amount that takes effect during the two-year period beginning on May 17, 2023, for any individual or family who is renting or executes a lease for a unit in the declared-disaster areas. This waiver would apply for twelve months from the date of the execution of the lease. Grantees and project sponsors must still ensure the reasonableness of rent charged for units in the declared-disaster areas in accordance with § 574.320(a)(3).

Nature of Requirement: The amount of grant funds used to pay monthly assistance for an eligible person may not exceed the difference between: (i) The lower of the rent standard or reasonable rent for the unit; and (ii) The resident's rent payment calculated under § 574.310(d).

Granted By: Marion McFadden, Principal Deputy Assistant Secretary for Community Planning and Development.

Date Granted: May 17, 2023.

Reason Waived: Permitting the maximum rental assistance subsidy to be calculated under 24 CFR 574.320(a)(1) without regard to the rent standard would enable HOPWA grantees to expedite efforts to meet the critical housing needs of low-income people living with HIV and their families in the declared-disaster areas. Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public 16 Housing Agencies To Assist With Recovery and Relief Efforts on Behalf of Families Affected by Presidentially Declared Disasters, 87 FR 469 (Section 8 Disaster Notice) provides additional rent standard flexibility in presidentially declared disaster areas. Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the requirement to use the rent standard in the calculation of the maximum monthly rental assistance amount under § 574.320(a)(1), while still requiring that the unit be rent reasonable in accordance with § 574.320(a)(3), will make more units immediately available to HOPWA eligible individuals and families in need of permanent housing in the declared-disaster areas and will help to quickly stabilize their housing and health.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of May 17, 2023.

Nature of Requirement: Each grantee must maintain records to document compliance with HOPWA requirements, which includes determining the eligibility of a family to receive HOPWA assistance.

Granted By: Marion McFadden, Principal Deputy Assistant Secretary for Community Planning and Development.

Date Granted: May 17, 2023.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, lisa.a.steinhauer@hud.gov.

Mega-Waiver for California Severe Winter Storms, Straight-Line Winds, Flooding, Landslides, and Mudslides—Housing Opportunities for Persons With AIDS (HOPWA) Program

On May 17, 2023, HUD issued a memorandum offering waivers of certain statutory and regulatory requirements associated with several Community Planning and Development (CPD) grant programs to address damage and facilitate recovery from California severe winter storms, straight-line winds, flooding, landslides, and mudslides in areas covered by a major disaster declaration under Title IV of the Robert T. Stafford Disaster Relief and Emergency Assistance Act (Stafford Act), DR-4699-CA, dated April 3, 2023, as may be amended (the “declared-disaster areas”).

• Regulation: 24 CFR 574.310(b)(2), Habitability Standards.

Project/Activity: The habitability requirements in 24 CFR 574.310(b)(2) are waived for units in the declared-disaster areas that are or will be occupied by HOPWA-eligible households, provided that the units are free of life-threatening conditions as defined in Notice PIH 2017-20 (HA). Grantees must ensure that these units meet HOPWA habitability standards within 60 days of the date of May 17, 2023.

Nature of Requirement: Section 574.310(b)(2) of the HOPWA regulations provides minimum habitability standards that apply to all housing for which HOPWA funds are used for acquisition, rehabilitation, conversion, lease, or repair; new construction of single room occupancy dwellings and community residences; project or tenant-based rental assistance; or operating costs under 24 CFR 574.300(b)(3), (4), (5), or (8).

Granted By: Marion McFadden, Principal Deputy Assistant Secretary for Community Planning and Development.

Date Granted: May 17, 2023.

Reason Waived: This waiver is required to enable grantees and project sponsors to expeditiously meet the critical housing needs of the many eligible families in the declared disaster areas.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.320(a)(1), Maximum Subsidy.

Project/Activity: Provided that the maximum subsidy is otherwise calculated as provided by § 574.320(a)(1), the requirement to use the rent standard as provided by § 574.320(a)(1) is waived. This waiver applies to the calculation of rental assistance for any rent amount that takes effect during the two-year period beginning on May 17, 2023, for any individual or family who is renting or executes a lease for a unit in the declared-disaster areas. This waiver would apply for twelve months from the date of the execution of the lease. Grantees and project sponsors must still ensure the reasonableness of rent charged for units in the declared-disaster areas in accordance with § 574.320(a)(3).

Nature of Requirement: The amount of grant funds used to pay monthly assistance for an eligible person may not exceed the difference between: (i) The lower of the rent standard or reasonable rent for the unit; and (ii) The resident's rent payment calculated under § 574.310(d).

Granted By: Marion McFadden, Principal Deputy Assistant Secretary for Community Planning and Development.

Date Granted: May 17, 2023.

Reason Waived: Permitting the maximum rental assistance subsidy to be calculated under 24 CFR 574.320(a)(1) without regard to the rent standard would enable HOPWA grantees to expedite efforts to meet the critical housing needs of low-income people living with HIV and their families in the declared-disaster areas. Under the programmatic requirements at 24 CFR 574.320(a)(2), the rent standard shall be no more than the published section 8 fair market rent (FMR) or the HUD-approved community-wide exception for the unit size. In addition, on a unit-by-unit basis, the grantee may increase that amount by up to 10 percent for up to 20 percent of the units assisted. Notice CPD-22-10 Clarification of Rent Standard Requirement for the Housing Opportunities for Persons With AIDS (HOPWA) Program provides additional clarity and flexibility on how HOPWA grantees can administer the rent standard in accordance with 24 CFR 574.320(a)(2) and the Regulatory and Administrative Requirement Waivers and Flexibilities Available to HUD Public Housing and Section 8 During CY 2022 and CY 2023 to Public 16 Housing Agencies To Assist With Recovery and Relief Efforts on Behalf of Families Affected by Presidentially Declared Disasters, 87 FR 469 (Section 8 Disaster Notice) provides additional rent standard flexibility in presidentially declared disaster areas. Due to the extensive damage to housing units in the declared disaster area and the need to ensure safe and decent units are immediately available to eligible households to prevent homelessness and protect the health of the people with HIV served under the program, HUD has determined that it is not practicable for grantees to be held to the rent standards in 24 CFR 574.320(a)(2) even with the additional flexibilities under Notice CPD-22-10 and the Section 8 Disaster Notice. Waiving the requirement to use the rent standard in the calculation of the maximum monthly rental assistance amount under § 574.320(a)(1), while still requiring that the unit be rent reasonable in accordance with § 574.320(a)(3), will make more units immediately available to HOPWA eligible individuals and families in need of permanent housing in the declared-disaster areas and will help to quickly stabilize their housing and health.

Contact: Lisa Steinhauer, Office of HIV/AIDS Housing, Office of Community Planning and Development, Department of Housing and Urban Development, 451 Seventh Street SW, Room 7248, Washington, DC 20410, telephone (215) 861-7651, lisa.a.steinhauer@hud.gov.

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of May 17, 2023.

Nature of Requirement: Each grantee must maintain records to document compliance with HOPWA requirements, which includes determining the eligibility of a family to receive HOPWA assistance.

Granted By: Marion McFadden, Principal Deputy Assistant Secretary for Community Planning and Development.

Date Granted: May 17, 2023.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, lisa.a.steinhauer@hud.gov.

Mega-Waiver for Guam Typhoon Mawar—Housing Opportunities for Persons With AIDS (HOPWA) Program

On June 26, 2023, HUD issued a memorandum offering waivers of certain statutory and regulatory requirements associated with several Community Planning and Development (CPD) grant programs to address damage and facilitate recovery from Guam Typhoon Mawar in areas covered by a major disaster declaration under Title IV of the Robert T. Stafford Disaster Relief and Emergency Assistance Act (Stafford Act), DR-4715-GU, dated May 25, 2023, as may be amended (the “declared-disaster areas”).

• Regulation: 24 CFR 574.530, Recordkeeping.

Project/Activity: The recordkeeping requirement at 24 CFR 574.530 is waived to the extent necessary to allow HOPWA grantees, located within and outside of the declared disaster areas, to assist displaced persons and families, provided that the grantees (1) require written certification of HIV status and income of such individuals and families seeking assistance and (2) obtain source documentation of HIV status and income eligibility within six months of June 26, 2023.

Nature of Requirement: Each grantee must maintain records to document compliance with HOPWA requirements, which includes determining the eligibility of a family to receive HOPWA assistance.

Granted By: Marion McFadden, Principal Deputy Assistant Secretary for Community Planning and Development.

Date Granted: June 26, 2023.

Reason Waived: This waiver will permit HOPWA grantees and project sponsors, located within and outside of the declared-disaster areas, to rely upon a family member's self-certification of income and HIV status in lieu of source documentation to determine eligibility for HOPWA assistance for individuals and families displaced by the disaster. Many individuals and families displaced by the disaster whose homes have been destroyed or damaged will not have immediate access to documentation of income or medical records and, without this waiver, will be unable to document their eligibility for HOPWA assistance.

Contact: Lisa Steinhauer, Office of HIV/AIDS Housing, Office of Community Planning and Development, Department of Housing and Urban Development, 451 Seventh Street SW, Room 7248, Washington, DC 20410, telephone (215) 861-7651, lisa.a.steinhauer@hud.gov.

I. Mega-Waiver for Arkansas Severe Storms and Tornadoes—CoC

On April 11, 2023, Principal Deputy Assistant Secretary Marion McFadden issued a memorandum offering waivers of certain statutory and regulatory requirements associated with several Community Planning and Development (CPD) grant programs to address damage and facilitate recovery from severe storms and tornadoes in areas of Arkansas covered by a major disaster declaration under Title IV of the Robert T. Stafford Disaster Relief and Emergency Assistance Act (Stafford Act), DR-4698-AR, dated April 2, 2023, and as may be amended (the “declared-disaster areas”). The following summarizes the waivers available for CoC Program Recipients.

CoC—Permanent Housing Rapid Re-Housing Limit to 24 Months of Rental Assistance

• Regulation: 24 CFR 578.37(a)(1)(ii), 24 CFR 578.37(a)(1)(ii)(C), and 24 CFR 578.51(a)(1)(i).

Project/Activity: For two years from the issuance of the waiver, the 24-month limit on rental assistance is waived for individuals and families who meet the following criteria. (1) The individual or family lives in a declared-disaster area or was displaced from a declared-disaster area as a result of the disaster; and (2) the individual or family is currently receiving rental assistance or begins receiving rental assistance within two years after the date of the issuance of the waiver.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: April 11, 2023.

Reason Waived: Waiving the 24-month cap on rapid re-housing rental assistance will assist individuals and families affected by the disaster, including those already receiving rental assistance as well as those who will receive rental assistance within 2 years of the date of the issuance of the waiver, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone number (202) 708-4300.

CoC—One Year Lease Requirement

• Regulation: 24 CFR 578.3, definition of permanent housing, 24 CFR 578.51(l)(1).

Project/Activity: The one-year lease requirement is waived for two years beginning on the date of the issuance of the waiver for program participants living in a declared-disaster area or program participants displaced from a declared-disaster area as a result of the disaster, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: April 11, 2023.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone number (202) 708-4300.

CoC—One-Time Limit on Moving Costs

• Regulation: 24 CFR 578.53(e)(2).

Project/Activity: The one-time limit on moving costs of program participants is waived for two years beginning on the date of the issuance of the waiver for program participants living in a declared-disaster area or program participants displaced from a declared-disaster area as a result of the disaster.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: April 11, 2023.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone number (202) 708-4300.

CoC—Fair Market Rent (FMR) Cap on Rent Paid With Leasing Funds

• Regulation: 24 CFR 578.49(b)(2).

Project/Activity: The FMR restriction is waived for any lease executed by a recipient or subrecipient in declared-declared areas to provide transitional or permanent supportive housing during the 2-year period beginning on the date of the issuance of the waiver. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: April 11, 2023.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone number (202) 708-4300.

CoC—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from the date of the issuance of the waiver so long as (1) the intake-staff records observations of disability in the client file at time of application; or (2) the individual seeking assistance provides written certification that they have a qualifying disability is provided at time of application.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: April 11, 2023.

Reason Waived: Waiving the requirement to obtain additional evidence of disability as provided in 24 CFR 578.103(a)(4)(i)(B)(4)) as specified below will allow recipient to house people impacted by severe storms and tornadoes in Arkansas by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone number (202) 708-4300.

II. Mega-Waiver for Arkansas Severe Storms and Tornadoes—ESG

On April 11, 2023, Principal Deputy Assistant Secretary Marion McFadden issued a memorandum offering waivers of certain statutory and regulatory requirements associated with several Community Planning and Development (CPD) grant programs to address damage and facilitate recovery from severe storms and tornadoes in areas of Arkansas covered by a major disaster declaration under Title IV of the Robert T. Stafford Disaster Relief and Emergency Assistance Act (Stafford Act), DR-4698-AR, dated April 2, 2023, and as may be amended (the “declared-disaster areas”). The following summarizes the waivers available for ESG Program Recipients.

ESG—Term Limits on Rental Assistance and Housing Relocation and Stabilization Services

• Regulation: 24 CFR 576.106(a); 24 CFR 576.105(a)(5); and 24 CFR 576.105(b)(2)—Term limits on Rental Assistance and Housing Relocation and Stabilization Services.

Project/Activity: The 24-month limits on rental assistance and housing relocation and stabilization services are waived for individuals and families who meet both of the following criteria: (1) the individual or family lives in a declared-disaster area or was displaced from a declared-disaster area as a result of severe storms and tornadoes in Arkansas; and (2) the individual or family is currently receiving rental assistance or housing relocation stabilization services or begins receiving rental assistance or housing relocation and stabilization services within two years after the date of the issuance of the waiver. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: April 11, 2023.

Reason Waived: Waiving the 24-month caps on rental assistance, utility payments, and housing stability case management assistance will assist individuals and families, both those already receiving assistance and those who will receive assistance subsequent to the date of the issuance of the waiver to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone number (202) 708-4300.

ESG—Restriction of Rental Assistance to Units With Rent at or Below Fair Market Rent (FMR)

• Regulation: 24 CFR 576.106(d)(1).

Project/Activity: The FMR restriction is waived for any rent amount that takes effect during the two-year period beginning on the date of the issuance of the waiver for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: April 11, 2023.

Reason Waived: HUD granted this waiver to enable ESG recipients to meet the critical housing needs of individuals and families whose housing was damaged or who were displaced as a result of severe storms and tornadoes in Arkansas. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone number (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: (1) Each unit must still meet applicable state and local standards; (2) Each unit must be free of life-threatening conditions as defined in Notice PIH 2017-20 (HA); and (3) Recipients must make sure all units in which program participants are assisted meet the ESG housing standards within 60 days of the date of the issuance of the waiver.

Nature of Requirement: If ESG funds are used to help a program participant remain in or move into housing, the housing must meet the minimum habitability standards provided in 24 CFR 576.403(c).

Granted By: Marion McFadden, Principal Deputy Assistant Secretary for Community Planning and Development.

Date Granted: April 11, 2023.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: April 11, 2023.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by ESG waivers on term limits on rental assistance and housing relocation and stabilization services; restriction of rental assistance to units with rent at or below FMR; assisting program participants with subleases; and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: April 11, 2023.

Reason Waived: Providing a limited waiver of the expenditure deadline for costs of providing homelessness prevention and rapid re-housing assistance to individuals and families will support recipients' ability to assist individuals and families as provided by other ESG program waivers related to this disaster.

Contact: Norm Suchar, Director, Office of Special Needs Assistance Programs, Office of Community Planning and Development, Department of Housing and Urban Development, 451 Seventh Street SW, Room 7262, Washington, DC 20410, telephone number (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: (1) The individual or family lives in the declared-disaster area or was displaced from the declared-disaster area as a result of severe storms and tornadoes in Arkansas; (2) The individual or family is currently receiving ESG-funded rental assistance as the leaseholder or housing relocation stabilization services or begins receiving rental assistance or housing relocation stabilization services within two years after the date of the issuance of the waiver; (3) The individual or family chooses to rent a unit through a legally valid sublease or lease with the primary leaseholder for the unit; and (4) The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: April 11, 2023.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone number (202) 708-4300.

III. Mega-Waiver for Tennessee Severe Storms, Straight-Line Winds, and Tornadoes—CoC

On May 17, 2023, Principal Deputy Assistant Secretary Marion McFadden issued a memorandum offering waivers of certain statutory and regulatory requirements associated with several Community Planning and Development (CPD) grant programs to address damage and facilitate recovery from Tennessee severe storms, straight-line winds, and tornadoes covered by a major disaster declaration under Title IV of the Robert T. Stafford Disaster Relief and Emergency Assistance Act (Stafford Act), DR-4698-AR, dated April 7, 2023, and as may be amended (the “declared-disaster areas”). The following summarizes the waivers available for CoC Program Recipients.

CoC—Permanent Housing Rapid Re-Housing Limit to 24 Months of Rental Assistance

• Regulation: 24 CFR 578.37(a)(1)(ii), 24 CFR 578.37(a)(1)(ii)(C), and 24 CFR 578.51(a)(1)(i).

Project/Activity: For two years from the date of the issuance of the waiver, the 24-month limit on rental assistance is waived for individuals and families who meet the following criteria. (1) The individual or family lives in a declared-disaster area or was displaced from a declared-disaster area as a result of the disaster; and (2) the individual or family is currently receiving rental assistance or begins receiving rental assistance within two years after the date of the issuance of the waiver.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: May 17, 2023.

Reason Waived: Waiving the 24-month cap on rapid re-housing rental assistance will assist individuals and families affected by the disaster, including those already receiving rental assistance as well as those who will receive rental assistance within 2 years of the date of the issuance of the waiver, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone number (202) 708-4300.

CoC—One Year Lease Requirement

• Regulation: 24 CFR 578.3, definition of permanent housing, 24 CFR 578.51(l)(1).

Project/Activity: The one-year lease requirement is waived for two years beginning on the date of the issuance of the waiver for program participants living in a declared-disaster area or program participants displaced from a declared-disaster area as a result of the disaster, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: May 17, 2023.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone number (202) 708-4300.

CoC—One-Time Limit on Moving Costs

• Regulation: 24 CFR 578.53(e)(2).

Project/Activity: The one-time limit on moving costs of program participants is waived for two years beginning on the date of the issuance of the waiver for program participants living in a declared-disaster area or program participants displaced from a declared-disaster area as a result of the disaster.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: May 17, 2023.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone number (202) 708-4300.

CoC—Fair Market Rent (FMR) Cap on Rent Paid With Leasing Funds

• Regulation: 24 CFR 578.49(b)(2).

Project/Activity: The FMR restriction is waived for any lease executed by a recipient or subrecipient in declared-declared areas to provide transitional or permanent supportive housing during the 2-year period beginning on the date of the issuance of the waiver. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: May 17, 2023.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone number (202) 708-4300.

CoC—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from the date of the issuance of the waiver so long as (1) the intake-staff records observations of disability in the client file at time of application; or (2) the individual seeking assistance provides written certification that they have a qualifying disability is provided at time of application.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: May 17, 2023.

Reason Waived: Waiving the requirement to obtain additional evidence of disability as provided in 24 CFR 578.103(a)(4)(i)(B)(4)) as specified below will allow recipient to house people impacted by severe storms, straight-line winds, and tornadoes in Tennessee by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone number (202) 708-4300.

IV. Mega-Waiver for Tennessee Severe Storms, Straight-Line Winds, and Tornadoes—ESG

On May 17, 2023, Principal Deputy Assistant Secretary Marion McFadden issued a memorandum offering waivers of certain statutory and regulatory requirements associated with several Community Planning and Development (CPD) grant programs to address damage and facilitate recovery from severe storms, straight-line winds, and tornadoes in areas of Tennessee covered by a major disaster declaration under Title IV of the Robert T. Stafford Disaster Relief and Emergency Assistance Act (Stafford Act), DR-4698-AR, dated April 2, 2023, and as may be amended (the “declared-disaster areas”). The following summarizes the waivers available for ESG Program Recipients.

ESG—Term Limits on Rental Assistance and Housing Relocation and Stabilization Services

• Regulation: 24 CFR 576.106(a); 24 CFR 576.105(a)(5); and 24 CFR 576.105(b)(2)—Term limits on Rental Assistance and Housing Relocation and Stabilization Services.

Project/Activity: The 24-month limits on rental assistance and housing relocation and stabilization services are waived for individuals and families who meet both of the following criteria: (1) the individual or family lives in a declared-disaster area or was displaced from a declared-disaster area as a result of severe storms, straight-line winds, and tornadoes in Tennessee; and (2) the individual or family is currently receiving rental assistance or housing relocation stabilization services or begins receiving rental assistance or housing relocation and stabilization services within two years after the date of the issuance of the waiver. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: May 17, 2023.

Reason Waived: Waiving the 24-month caps on rental assistance, utility payments, and housing stability case management assistance will assist individuals and families, both those already receiving assistance and those who will receive assistance subsequent to the date of the issuance of the waiver to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone number (202) 708-4300.

ESG—Restriction of Rental Assistance to Units With Rent at or Below Fair Market Rent (FMR)

• Regulation: 24 CFR 576.106(d)(1).

Project/Activity: The FMR restriction is waived for any rent amount that takes effect during the two-year period beginning on the date of the issuance of the waiver for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: May 17, 2023.

Reason Waived: HUD granted this waiver to enable ESG recipients to meet the critical housing needs of individuals and families whose housing was damaged or who were displaced as a result of severe storms, straight-line winds, and tornadoes in Tennessee. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone number (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: (1) Each unit must still meet applicable state and local standards; (2) Each unit must be free of life-threatening conditions as defined in Notice PIH 2017-20 (HA); and (3) Recipients must make sure all units in which program participants are assisted meet the ESG housing standards within 60 days of the date of the issuance of the waiver.

Nature of Requirement: If ESG funds are used to help a program participant remain in or move into housing, the housing must meet the minimum habitability standards provided in 24 CFR 576.403(c).

Granted By: Marion McFadden, Principal Deputy Assistant Secretary for Community Planning and Development.

Date Granted: May 17, 2023.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters.

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: May 17, 2023.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by ESG waivers on term limits on rental assistance and housing relocation and stabilization services; restriction of rental assistance to units with rent at or below FMR; assisting program participants with subleases; and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: May 17, 2023.

Reason Waived: Providing a limited waiver of the expenditure deadline for costs of providing homelessness prevention and rapid re-housing assistance to individuals and families will support recipients' ability to assist individuals and families as provided by other ESG program waivers related to this disaster.

Contact: Norm Suchar, Director, Office of Special Needs Assistance Programs, Office of Community Planning and Development, Department of Housing and Urban Development, 451 Seventh Street SW, Room 7262, Washington, DC 20410, telephone number (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: (1) The individual or family lives in the declared-disaster area or was displaced from the declared-disaster area as a result of severe storms, straight-line winds, and tornadoes in Tennessee; (2) The individual or family is currently receiving ESG-funded rental assistance as the leaseholder or housing relocation stabilization services or begins receiving rental assistance or housing relocation stabilization services within two years after the date of the issuance of the waiver; (3) The individual or family chooses to rent a unit through a legally valid sublease or lease with the primary leaseholder for the unit; and (4) The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: May 17, 2023.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone number (202) 708-4300.

V. Mega-Waiver for California Severe Winter Storms, Straight-Line Winds, Flooding, Landslides, and Mudslides—CoC

On May 17, 2023, Principal Deputy Assistant Secretary Marion McFadden issued a memorandum offering waivers of certain statutory and regulatory requirements associated with several Community Planning and Development (CPD) grant programs to address damage and facilitate recovery from California severe winter storms, straight-line winds, flooding, landslides, and mudslides covered by a major disaster declaration under Title IV of the Robert T. Stafford Disaster Relief and Emergency Assistance Act (Stafford Act), DR-4698-AR, dated April 3, 2023, and as may be amended (the “declared-disaster areas”). The following summarizes the waivers available for CoC Program Recipients.

CoC—Permanent Housing Rapid Re-Housing Limit to 24 Months of Rental Assistance

• Regulation: 24 CFR 578.37(a)(1)(ii), 24 CFR 578.37(a)(1)(ii)(C), and 24 CFR 578.51(a)(1)(i).

Project/Activity: For two years from the date of the issuance of the waiver, the 24-month limit on rental assistance is waived for individuals and families who meet the following criteria. (1) The individual or family lives in a declared-disaster area or was displaced from a declared-disaster area as a result of the disaster; and (2) the individual or family is currently receiving rental assistance or begins receiving rental assistance within two years after the date of the issuance of the waiver.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: May 17, 2023.

Reason Waived: Waiving the 24-month cap on rapid re-housing rental assistance will assist individuals and families affected by the disaster, including those already receiving rental assistance as well as those who will receive rental assistance within 2 years of the date of the issuance of the waiver, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone number (202) 708-4300.

CoC—One Year Lease Requirement

• Regulation: 24 CFR 578.3, definition of permanent housing, 24 CFR 578.51(l)(1).

Project/Activity: The one-year lease requirement is waived for two years beginning on the date of the issuance of the waiver for program participants living in a declared-disaster area or program participants displaced from a declared-disaster area as a result of the disaster, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: May 17, 2023.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone number (202) 708-4300.

CoC—One-Time Limit on Moving Costs

• Regulation: 24 CFR 578.53(e)(2).

Project/Activity: The one-time limit on moving costs of program participants is waived for two years beginning on the date of the issuance of the waiver for program participants living in a declared-disaster area or program participants displaced from a declared-disaster area as a result of the disaster.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: May 17, 2023.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone number (202) 708-4300.

CoC—Fair Market Rent (FMR) Cap on Rent Paid With Leasing Funds

• Regulation: 24 CFR 578.49(b)(2).

Project/Activity: The FMR restriction is waived for any lease executed by a recipient or subrecipient in declared-declared areas to provide transitional or permanent supportive housing during the 2-year period beginning on the date of the issuance of the waiver. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: May 17, 2023.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone number (202) 708-4300.

CoC—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from the date of the issuance of the waiver so long as (1) the intake-staff records observations of disability in the client file at time of application; or (2) the individual seeking assistance provides written certification that they have a qualifying disability is provided at time of application.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: May 17, 2023.

Reason Waived: Waiving the requirement to obtain additional evidence of disability as provided in 24 CFR 578.103(a)(4)(i)(B)(4)) as specified below will allow recipient to house people impacted from severe winter storms, straight-line winds, flooding, landslides, and mudslides in California by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone number (202) 708-4300.

VI. Mega-Waiver for California Severe Winter Storms, Straight-Line Winds, Flooding, Landslides, and Mudslides—Esg

On May 17, 2023, Principal Deputy Assistant Secretary Marion McFadden issued a memorandum offering waivers of certain statutory and regulatory requirements associated with several Community Planning and Development (CPD) grant programs to address damage and facilitate recovery from severe winter storms, straight-line winds, flooding, landslides, and mudslides in areas of California covered by a major disaster declaration under Title IV of the Robert T. Stafford Disaster Relief and Emergency Assistance Act (Stafford Act), DR-4698-AR, dated April 2, 2023, and as may be amended (the “declared-disaster areas”). The following summarizes the waivers available for ESG Program Recipients.

ESG—Term Limits on Rental Assistance and Housing Relocation and Stabilization Services

• Regulation: 24 CFR 576.106(a); 24 CFR 576.105(a)(5); and 24 CFR 576.105(b)(2)—Term limits on Rental Assistance and Housing Relocation and Stabilization Services.

Project/Activity: The 24-month limits on rental assistance and housing relocation and stabilization services are waived for individuals and families who meet both of the following criteria: (1) the individual or family lives in a declared-disaster area or was displaced from a declared-disaster area as a result of severe winter storms, straight-line winds, flooding, landslides, and mudslides in California; and (2) the individual or family is currently receiving rental assistance or housing relocation stabilization services or begins receiving rental assistance or housing relocation and stabilization services within two years after the date of the issuance of the waiver. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: May 17, 2023.

Reason Waived: Waiving the 24-month caps on rental assistance, utility payments, and housing stability case management assistance will assist individuals and families, both those already receiving assistance and those who will receive assistance subsequent to the date of the issuance of the waiver to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone number (202) 708-4300.

ESG—Restriction of Rental Assistance to Units With Rent at or Below Fair Market Rent (FMR)

• Regulation: 24 CFR 576.106(d)(1).

Project/Activity: The FMR restriction is waived for any rent amount that takes effect during the two-year period beginning on the date of the issuance of the waiver for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: May 17, 2023.

Reason Waived: HUD granted this waiver to enable ESG recipients to meet the critical housing needs of individuals and families whose housing was damaged or who were displaced as a result of severe winter storms, straight-line winds, flooding, landslides, and mudslides in California. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone number (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: (1) Each unit must still meet applicable state and local standards; (2) Each unit must be free of life-threatening conditions as defined in Notice PIH 2017-20 (HA); and (3) Recipients must make sure all units in which program participants are assisted meet the ESG housing standards within 60 days of the date of the issuance of the waiver.

Nature of Requirement: If ESG funds are used to help a program participant remain in or move into housing, the housing must meet the minimum habitability standards provided in 24 CFR 576.403(c).

Granted By: Marion McFadden, Principal Deputy Assistant Secretary for Community Planning and Development.

Date Granted: May 17, 2023.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters.

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: May 17, 2023.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by ESG waivers on term limits on rental assistance and housing relocation and stabilization services; restriction of rental assistance to units with rent at or below FMR; assisting program participants with subleases; and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: May 17, 2023.

Reason Waived: Providing a limited waiver of the expenditure deadline for costs of providing homelessness prevention and rapid re-housing assistance to individuals and families will support recipients' ability to assist individuals and families as provided by other ESG program waivers related to this disaster.

Contact: Norm Suchar, Director, Office of Special Needs Assistance Programs, Office of Community Planning and Development, Department of Housing and Urban Development, 451 Seventh Street SW, Room 7262, Washington, DC 20410, telephone number (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: (1). The individual or family lives in the declared-disaster area or was displaced from the declared-disaster area as a result of severe winter storms, straight-line winds, flooding, landslides, and mudslides in California; (2). The individual or family is currently receiving ESG-funded rental assistance as the leaseholder or housing relocation stabilization services or begins receiving rental assistance or housing relocation stabilization services within two years after the date of the issuance of the waiver; (3). The individual or family chooses to rent a unit through a legally valid sublease or lease with the primary leaseholder for the unit; and (4). The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: May 17, 2023.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone number (202) 708-4300.

VII. Mega-Waiver for Guam Typhoon Mawar—CoC

On June 26, 2023, Principal Deputy Assistant Secretary Marion McFadden issued a memorandum offering waivers of certain statutory and regulatory requirements associated with several Community Planning and Development (CPD) grant programs to address damage and facilitate recovery from Typhoon Mawar in areas covered by a major disaster declaration under Title IV of the Robert T. Stafford Disaster Relief and Emergency Assistance Act (Stafford Act), DR-4715-GU, dated May 25, 2023, and as may be amended (the “declared-disaster areas”). The following summarizes the waivers available for CoC Program Recipients.

CoC—Permanent Housing Rapid Re-Housing Limit to 24 Months of Rental Assistance

• Regulation: 24 CFR 578.37(a)(1)(ii), 24 CFR 578.37(a)(1)(ii)(C), and 24 CFR 578.51(a)(1)(i).

Project/Activity: For two years from the date of the issuance of the waiver, the 24-month limit on rental assistance is waived for individuals and families who meet the following criteria. (1) The individual or family lives in a declared-disaster area or was displaced from a declared-disaster area as a result of the disaster; and (2) the individual or family is currently receiving rental assistance or begins receiving rental assistance within two years after the date of the issuance of the waiver.

Nature of Requirement: The CoC Program regulation at 24 CFR 578.37(a)(1)(ii) and 24 CFR 578.51(a)(1)(i) defines medium-term rental assistance as 3 to 24 months and 24 CFR 578.37(a)(1)(ii) and 24 CFR 578.37(a)(1)(ii)(C) limits rapid re-housing projects to medium-term rental assistance, or no more than 24 months.

Granted By: Marion McFadden, Principal Deputy Assistant Secretary for Community Planning and Development.

Date Granted: June 26, 2023.

Reason Waived: Waiving the 24-month cap on rapid re-housing rental assistance will assist individuals and families affected by the disaster, including those already receiving rental assistance as well as those who will receive rental assistance within 2 years of the date of the issuance of the waiver, to maintain stable permanent housing in another area and help them return to their hometowns, as desired, when additional permanent housing becomes available. It will also provide additional time to stabilize individuals and families in permanent housing where vacancy rates are extraordinarily low due to the disaster. Experience with prior disasters has shown us some program participants need additional months of rental assistance to identify and stabilize in housing of their choice, which can mean moving elsewhere until they are able to return to their hometowns.

Contact: Norm Suchar, Director, Office of Special Needs Assistance Programs, Office of Community Planning and Development, Department of Housing and Urban Development, 451 Seventh Street SW, Room 7262, Washington, DC 20410, telephone number (202) 708-4300.

CoC—One Year Lease Requirement

• Regulation: 24 CFR 578.3, definition of permanent housing, 24 CFR 578.51(l)(1).

Project/Activity: The one-year lease requirement is waived for two years beginning on the date of the issuance of the waiver for program participants living in a declared-disaster area or program participants displaced from a declared-disaster area as a result of the disaster, so long as the initial lease term of all leases is for more than one month, and the leases are renewable for terms that are a minimum of one month long and the leases are terminable only for cause.

Nature of Requirement: The CoC Program regulation at 24 CFR 578.3, definition of permanent housing, and 24 CFR 578.51(l)(1) requires program participants residing in permanent housing to be the tenant on a lease for a term of one year that is renewable and terminable only for cause.

Granted By: Marion McFadden, Principal Deputy Assistant Secretary for Community Planning and Development.

Date Granted: June 26, 2023.

Reason Waived: Waiving the one-year lease requirement will allow program participants receiving PSH or RRH assistance under the CoC Program to enter into leases that have an initial term of less than one year, so long as the leases have an initial term of more than one month. While some program participants desire to identify new housing, many program participants displaced during the disaster desire to return to their original permanent housing units when repairs are complete because of proximity to schools and access to public transportation and services. Additionally, it will permit new program participants to identify permanent housing units in a tight rental market where many landlords prefer lease terms of less than one year and might not be willing to alter their policies regarding the length of lease terms when considering permanent housing applicants. Therefore, HUD had determined that waiving the one-year lease requirement will improve the housing options available to program participants in permanent housing projects.

Contact: Norm Suchar, Director, Office of Special Needs Assistance Programs, Office of Community Planning and Development, Department of Housing and Urban Development, 451 Seventh Street SW, Room 7262, Washington, DC 20410, telephone number (202) 708-4300.

CoC—One-Time Limit on Moving Costs

• Regulation: 24 CFR 578.53(e)(2).

Project/Activity: The one-time limit on moving costs of program participants is waived for two years beginning on the date of the issuance of the waiver for program participants living in a declared-disaster area or program participants displaced from a declared-disaster area as a result of the disaster.

Nature of Requirement: The CoC Program regulation at 24 CFR 578.53(e)(2) limits recipients of supportive service funds to using those funds to pay for moving costs to provide reasonable moving assistance, including truck rental and hiring a moving company, to only one-time per program participant.

Granted By: Marion McFadden, Principal Deputy Assistant Secretary for Community Planning and Development.

Date Granted: June 26, 2023.

Reason Waived: Waiving this provision will permit recipients to pay for reasonable moving costs for program participants more than once and will assist program participants affected by the disaster as well as those who become homeless in the areas impacted by the disaster to stabilize in housing locations of their choice. Many current program participants received assistance moving into their assisted units prior to being displaced by the disaster, and experience with prior disasters has shown us some program participants will need additional assistance moving to a new unit while others will need assistance moving back to their original units after repairs are completed. Further, until the housing market stabilizes, experience has shown many program participants will need to move more than once during their participation in a program to find a unit that best meets their needs.

Contact: Norm Suchar, Director, Office of Special Needs Assistance Programs, Office of Community Planning and Development, Department of Housing and Urban Development, 451 Seventh Street SW, Room 7262, Washington, DC 20410, telephone number (202) 708-4300.

CoC—Fair Market Rent (FMR) Cap on Rent Paid With Leasing Funds

• Regulation: 24 CFR 578.49(b)(2).

Project/Activity: The FMR restriction is waived for any lease executed by a recipient or subrecipient in declared-declared areas to provide transitional or permanent supportive housing during the 2-year period beginning on the date of the issuance of the waiver. The affected recipient or subrecipient must still ensure that rent paid for individual units that are leased with CoC Program leasing dollars meet the rent reasonableness standard in 24 CFR 578.49(b)(2) meaning the rent paid must be reasonable in relation to rents being charged for comparable units, taking into account the location, size, type, quality, amenities, facilities, and management services.

Nature of Requirement: The CoC Program regulation at 24 CFR 578.49(b)(2) prohibits a recipient from using grant funds for leasing to pay above FMR when leasing individual units, even if the rent is reasonable when compared to other similar, unassisted units.

Granted By: Marion McFadden, Principal Deputy Assistant Secretary for Community Planning and Development.

Date Granted: June 26, 2023.

Reason Waived: Waiving the limit on using leasing funds to pay above FMR for individual units above FMR, but not greater than reasonable rent, will provide recipients and subrecipients with more flexibility in identifying housing options for program participants in declared-declared areas. The rental markets in areas impacted by disasters are often more expensive after the disaster due to decreased housing stock and increased rents. These more expensive rents are not reflected in the HUD-determined FMRs.

Contact: Norm Suchar, Director, Office of Special Needs Assistance Programs, Office of Community Planning and Development, Department of Housing and Urban Development, 451 Seventh Street SW, Room 7262, Washington, DC 20410, telephone number (202) 708-4300.

CoC—Disability Documentation for Permanent Supportive Housing (PSH)

• Regulation: 24 CFR 578.103(a) and 24 CFR 578.103(a)(4)(i)(B).

Project/Activity: The requirement that intake-staff recorded observations of disability be confirmed and accompanied by other evidence no later than 45 days from the date of application for assistance is waived for any program participant admitted into PSH funded by the CoC program one-year from the date of the issuance of the waiver so long as (1) the intake-staff records observations of disability in the client file at time of application; or (2) the individual seeking assistance provides written certification that they have a qualifying disability is provided at time of application.

Nature of Requirement: 24 CFR 578.103(a) requires recipient to maintain records providing evidence they met program requirements and 24 CFR 578.103(a)(4)(i)(B) establishes the requirements for documenting disability for individuals and families that meet the “chronically homeless” definition in 24 CFR 578.3. Acceptable evidence of disability includes intake-staff recorded observations of disability no later than 45 days from the date of application for assistance, which is confirmed and accompanied by evidence in paragraphs 24 CFR 578.103(a)(4)(i)(B)(1), (2), (3), or (5). HUD is waiving the requirement to obtain additional evidence to confirm staff-recorded observations of disability.

Granted By: Marion McFadden, Principal Deputy Assistant Secretary for Community Planning and Development.

Date Granted: June 26, 2023.

Reason Waived: Waiving the requirement to obtain additional evidence of disability as provided in 24 CFR 578.103(a)(4)(i)(B)(4)) as specified below will allow recipient to house people impacted by Typhoon Mawar by relying on intake staff-recorded observations of disability or a written self-certification by the program participant. This will help individuals and families with disabilities to expeditiously receive needed housing assistance when paperwork from the Social Security Administration or medical professionals cannot be quickly obtained.

Contact: Norm Suchar, Director, Office of Special Needs Assistance Programs, Office of Community Planning and Development, Department of Housing and Urban Development, 451 Seventh Street SW, Room 7262, Washington, DC 20410, telephone number (202) 708-4300.

VIII. Mega-Waiver for Guam Typhoon Mawar—ESG

On June 26, 2023, Principal Deputy Assistant Secretary Marion McFadden issued a memorandum offering waivers of certain statutory and regulatory requirements associated with several Community Planning and Development (CPD) grant programs to address damage and facilitate recovery from Typhoon Mawar in areas covered by a major disaster declaration under Title IV of the Robert T. Stafford Disaster Relief and Emergency Assistance Act (Stafford Act), DR-4715-GU, dated May 25, 2023, and as may be amended (the “declared-disaster areas”). The following summarizes the waivers available for ESG Program Recipients.

ESG—Term Limits on Rental Assistance and Housing Relocation and Stabilization Services

• Regulation: 24 CFR 576.106(a); 24 CFR 576.105(a)(5); and 24 CFR 576.105(b)(2)—Term limits on Rental Assistance and Housing Relocation and Stabilization Services.

Project/Activity: The 24-month limits on rental assistance and housing relocation and stabilization services are waived for individuals and families who meet both of the following criteria: (1) the individual or family lives in a declared-disaster area or was displaced from a declared-disaster area as a result of Typhoon Mawar; and (2) the individual or family is currently receiving rental assistance or housing relocation stabilization services or begins receiving rental assistance or housing relocation and stabilization services within two years after the date of the issuance of the waiver. For these individuals and families, ESG funds may be used to provide up to 36 consecutive months of rental assistance, utility payments, and housing stability case management, in addition to the 30 days of housing stability case management that may be provided before the move into permanent housing under 24 CFR 576.105(b)(2). HUD will also consider further waiver requests to allow assistance to be provided for longer than three years, if the recipient demonstrates good cause.

Nature of Requirement: The ESG regulation at 24 CFR 576.106(a) prohibits a program participant from receiving more than 24 months of ESG rental assistance during any 3-year period. Section 576.105(a)(5) prohibits a program participant from receiving more than 24 months of utility payments under ESG during any 3-year period. Section 576.105(b)(2) limits the provision of housing stability case management to 30 days while the program participant is seeking permanent housing and 24 months while the program participant is living in permanent housing.

Granted By: Marion McFadden, Principal Deputy Assistant Secretary for Community Planning and Development.

Date Granted: June 26, 2023.

Reason Waived: Waiving the 24-month caps on rental assistance, utility payments, and housing stability case management assistance will assist individuals and families, both those already receiving assistance and those who will receive assistance subsequent to the date of the issuance of the waiver to maintain stable permanent housing in place or in another area and help them return to their hometowns, as desired, when additional permanent housing is available.

Contact: Norm Suchar, Director, Office of Special Needs Assistance Programs, Office of Community Planning and Development, Department of Housing and Urban Development, 451 Seventh Street SW, Room 7262, Washington, DC 20410, telephone number (202) 708-4300.

ESG—Restriction of Rental Assistance to Units With Rent at or Below Fair Market Rent (FMR)

• Regulation: 24 CFR 576.106(d)(1).

Project/Activity: The FMR restriction is waived for any rent amount that takes effect during the two-year period beginning on the date of the issuance of the waiver for any individual or family who is renting or executes a lease for a unit in a declared-disaster area. However, the affected recipients and their subrecipients must still ensure that the units in which ESG assistance is provided to these individuals and families meet the rent reasonableness standard. HUD will consider requests to waive the FMR restriction for rent amounts that take effect after the two-year period, if a recipient demonstrates good cause.

Nature of Requirement: Under 24 CFR 576.106(d)(1), rental assistance cannot be provided unless the total rent is equal to or less than the FMR established by HUD, as provided under 24 CFR part 888, and complies with HUD's standard of rent reasonableness, as established under 24 CFR 982.507.

Granted By: Marion McFadden, Principal Deputy Assistant Secretary for Community Planning and Development.

Date Granted: June 26, 2023.

Reason Waived: HUD granted this waiver to enable ESG recipients to meet the critical housing needs of individuals and families whose housing was damaged or who were displaced as a result of Typhoon Mawar. Waiving the FMR restriction will make more units available to individuals and families in need of permanent housing.

Contact: Norm Suchar, Director, Office of Special Needs Assistance Programs, Office of Community Planning and Development, Department of Housing and Urban Development, 451 Seventh Street SW, Room 7262, Washington, DC 20410, telephone number (202) 708-4300.

ESG—Housing Standards

• Regulation: 24 CFR 576.403(c).

Project/Activity: The ESG housing standards at 24 CFR 576.403(c) are waived for units in the declared disaster area that are or will be occupied by individuals or families eligible for ESG Rapid Re-housing or Homelessness Prevention assistance, provided that: (1) Each unit must still meet applicable state and local standards; (2) Each unit must be free of life-threatening conditions as defined in Notice PIH 2017-20 (HA); and (3) Recipients must make sure all units in which program participants are assisted meet the ESG housing standards within 60 days of the date of the issuance of the waiver.

Nature of Requirement: If ESG funds are used to help a program participant remain in or move into housing, the housing must meet the minimum habitability standards provided in 24 CFR 576.403(c).

Granted By: Marion McFadden, Principal Deputy Assistant Secretary for Community Planning and Development.

Date Granted: June 26, 2023.

Reason Waived: This waiver is needed to enable ESG recipients to expeditiously meet the critical housing needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Shelter Standards

• Regulation: 24 CFR 576.403(b).

Project/Activity: The ESG shelter standards at 24 CFR 576.403(b) are waived for shelters in the declared disaster area that are or will be occupied by individuals and families eligible for ESG emergency shelter assistance, provided that: (1) Each shelter must meet applicable state and local standards; (2) Each shelter must be free of life-threatening conditions defined in Notice PIH 2017-20 (HA); and (3) Recipients ensure that these shelters

Nature of Requirement: If ESG funds are used for shelter operations costs, the shelter must meet the minimum safety, sanitation and privacy standards under 24 CFR 576.403(b). If ESG funds are used to convert a building into a shelter, rehabilitation a shelter, or otherwise renovate a shelter, the shelter must meet the minimum safety, sanitation, and privacy standards in 24 CFR 576.403(b) as well as applicable state or local government safety and sanitation standards.

Granted By: Marion McFadden, Principal Deputy Assistant Secretary for Community Planning and Development.

Date Granted: June 26, 2023.

Reason Waived: This waiver is needed to enable ESG recipients to expeditiously meet the critical emergency shelter needs of many eligible individuals and families in the declared disaster area.

Contact: Norm Suchar, Director, Office of Special Needs Assistance Programs, Office of Community Planning and Development, Department of Housing and Urban Development, 451 Seventh Street SW, Room 7262, Washington, DC 20410, telephone number (202) 708-4300.

ESG—Limited Waiver of 24-Month Expenditure Deadline for Rapid Re-Housing and Homelessness Prevention Assistance and Related Administrative and HMIS Costs

• Regulation: 24 CFR 576.203(b).

Project/Activity: The expenditure deadline is waived only for costs of providing homelessness prevention and rapid re-housing assistance to individuals and families under the flexibility provided by ESG waivers on term limits on rental assistance and housing relocation and stabilization services; restriction of rental assistance to units with rent at or below FMR; assisting program participants with subleases; and reasonable HMIS and administrative costs related to that assistance. In addition, no expenditure may be made or charged to any grant on or after the date Treasury closes the relevant account as provided by 31 U.S.C. 1552.

Nature of Requirement: Section 576.203(b) of the ESG regulations requires all expenditures under an ESG grant to be made within 24 months after the date HUD signs the grant agreement with the recipient. For purposes of this requirement, expenditure means either an actual cash disbursement for a direct charge for a good or service or an indirect cost, or the accrual of a direct charge for a good or service or an indirect cost.

Granted By: Marion McFadden, Principal Deputy Assistant Secretary for Community Planning and Development.

Date Granted: June 26, 2023.

Reason Waived: Providing a limited waiver of the expenditure deadline for costs of providing homelessness prevention and rapid re-housing assistance to individuals and families will support recipients' ability to assist individuals and families as provided by other ESG program waivers related to this disaster.

Contact: Norm Suchar, Director, Office of Special Needs Assistance Programs, Office of Community Planning and Development, Department of Housing and Urban Development, 451 Seventh Street SW, Room 7262, Washington, DC 20410, telephone number (202) 708-4300.

ESG—Assisting Program Participants With Subleases

• Regulation: 24 CFR 576.105 and 24 CFR 576.106.

Project/Activity: The requirements in 24 CFR 576.105 and 576.106 are waived to the extent that the references to “owner” and “lease” in 24 CFR 576.105 and 576.106 restrict an individual or family from receiving assistance in a unit they rent from the primary leaseholder, provided that all of the following criteria are met: (1) The individual or family lives in the declared-disaster area or was displaced from the declared-disaster area as a result of Typhoon Mawar; (2) The individual or family is currently receiving ESG-funded rental assistance as the leaseholder or housing relocation stabilization services or begins receiving rental assistance or housing relocation stabilization services within two years after the date of the issuance of the waiver; (3) The individual or family chooses to rent a unit through a legally valid sublease or lease with the primary leaseholder for the unit; and (4). The recipient has developed written policies to apply the requirements of 24 CFR 576.105, 24 CFR 576.106, 24 CFR 576.409, and 24 CFR 576.500(h) with respect to that program participant by reading the references to “owner” and “housing owner” to apply to the primary leaseholder and reading the references to “lease” to apply to the program participant's sublease or lease with the primary leaseholder.

Nature of Requirement: The use of “owner” and “lease” in 24 CFR 576.105 and 576.106 prohibit program participants from receiving rental assistance under 24 CFR 576.106 and certain services under 24 CFR 576.105 with respect to units that program participants rent from a person other than the owner or the owner's agent. Justification: By increasing the permissible housing options for program participations, this waiver would allow the recipient to meet the critical housing needs of more eligible individuals and families in the declared disaster area.

Granted By: Marion McFadden, Principal Deputy Assistant Secretary for Community Planning and Development.

Date Granted: June 26, 2023.

Reason Waived: By increasing the permissible housing options for program participations, this waiver would allow the recipient to meet the critical housing needs of more eligible individuals and families in the declared disaster area.

Contact: Norm Suchar, Director, Office of Special Needs Assistance Programs, Office of Community Planning and Development, Department of Housing and Urban Development, 451 Seventh Street SW, Room 7262, Washington, DC 20410, telephone number (202) 708-4300.

II. Regulatory Waivers Granted by the Office of Public and Indian Housing

For further information about the following regulatory waivers, please see the name of the contact person that immediately follows the description of the waiver granted.

• Regulation: 24 CFR 982.505(c)(4) Increase in Payment Standard During Housing Assistance Payment (HAP) Contract Term.

Project/Activity: Notice PIH 2022-30 Extension of Certain Regulatory Waivers for the Housing Choice Voucher (including Mainstream) Program and Streamlined Review Process.

Nature of Requirement: PHAs may request an extension of the option to increase the payment standard for the family at any time after the effective date of the increase, rather than waiting for the next regular reexamination.

Reason Waived: Extension for PHAs that were granted to the opportunity to apply for certain regulatory waivers that were originally offered as part of the CARES Act waivers in Notice PIH 2021-14 to provide continued flexibility during the pandemic and pandemic recovery. HUD expeditiously responded to these waiver request in accordance with Section 106 of the Department of Housing and Urban Development Reform Act of 1989.

Granted By: Dominique Blom, General Deputy Assistant for Public and Indian Housing.

Contact: Tesia Anyanaso, Office of Field Operations/Coordination and Compliance Division, Office of Public and Indian Housing, 451 7th St. SW, Suite 3180, Washington, DC 20410-5000, or email to PIH_Expedited_Waivers@hud.gov.

PHAs | Date granted
Selma Housing Authority | 6/9/2023
Arkadelphia Housing Authority | 6/9/2023
Hot Springs Housing Authority | 6/9/2023
Conway County Housing Authority | 5/18/2023
St. Francis County Housing Authority | 5/18/2023
Housing Authority of the City of Hawaiian Gardens | 5/16/2023
Housing Authority of Pompano Beach | 4/11/2023
County of Maui | 5/18/2023
Housing Authority of the City of Richmond | 6/9/2023
Housing Authority of the City of New Albany | 4/11/2023
Housing Authority of the City of Tell City | 6/9/2023
Housing Authority of the City of Jeffersonville | 6/9/2023
Linton Housing Authority | 4/24/2023
Indiana Housing And Community Development Au | 6/9/2023
Topeka Housing Authority | 4/24/2023
Laurel County Section 8 Housing | 5/9/2023
Housing Authority of the City of Annapolis | 6/9/2023
Kent County Housing Commission | 5/30/2023
HRA of Fergus Falls, Minnesota | 5/9/2023
Stevens County HRA | 5/9/2023
Lafayette County Housing Authority | 5/30/2023
Isothermal Planning & Development Commission | 5/18/2023
Housing Authority of Cass County | 6/9/2023
Norfolk Housing Agency | 4/11/2023
Brick Housing Authority | 4/24/2023
West Orange Housing Authority | 6/9/2023
Santa Fe Civic Housing Authority | 5/30/2023
Southern Nevada Regional Housing Authority | 4/11/2023
Glens Falls Housing Authority | 6/9/2023
Knox Metropolitan Housing Authority | 5/18/2023
Municipality of San Juan | 4/24/2023
Municipality of Guayanilla | 4/11/2023
Jackson Housing Authority | 4/11/2023
Etowah Housing Authority | 5/18/2023
Logan City Housing Authority | 6/9/2023
CDA of the City of West Allis | 5/9/2023
Grand Junction Housing Authority | 6/30/2023
Central Iowa Regional Housing Authority | 6/30/2023
Westfield Housing Authority | 6/30/2023
Housing Authority of the City of Camden | 6/30/2023
Wayne Metropolitan Housing Authority | 6/30/2023
Morrow Metropolitan Housing Authority | 6/30/2023
Housing Authority of the County of Lycoming | 6/30/2023
Bear River Regional Housing Authority | 6/30/2023
Sheboygan Housing Authority | 6/30/2023

• Regulation: 24 CFR 982.503(b) Voucher Tenancy: New Payment Standard Amount.

Project/Activity: Notice PIH 2022-30 Extension of Certain Regulatory Waivers for the Housing Choice Voucher (including Mainstream) Program and Streamlined Review Process.

Nature of Requirement: PHAs may request an extension of expedited waiver(s) to allow for establishment of payment standards from 111 to 120 percent of the FMR.

Reason Waived: Extension for PHAs that were granted to the opportunity to apply for certain regulatory waivers that were originally offered as part of the CARES Act waivers in Notice PIH 2021-14 to provide continued flexibility during the pandemic and pandemic recovery. HUD expeditiously responded to these waiver request in accordance with Section 106 of the Department of Housing and Urban Development Reform Act of 1989.

Granted By: Dominique Blom, General Deputy Assistant for Public and Indian Housing.

Contact: Tesia Anyanaso, Office of Field Operations/Coordination and Compliance Division, Office of Public and Indian Housing, 451 7th St. SW, Suite 3180, Washington, DC 20410-5000, or email to PIH_Expedited_Waivers@hud.gov.

PHAs | Date granted
Selma Housing Authority | 6/9/2023
Arkadelphia Housing Authority | 6/9/2023
Little River County Housing Authority | 5/30/2023
Hot Springs Housing Authority | 6/9/2023
Wynne Housing Authority | 4/24/2023
Jonesboro Urban Renewal HA | 5/9/2023
Conway County Housing Authority | 5/18/2023
St. Francis County Housing Authority | 5/18/2023
City of Oceanside Community Development Comm | 4/24/2023
Housing Authority of the City of Hawaiian Gardens | 5/9/2023
Housing Authority of the City of Lakeland | 6/14/2023
Housing Authority of Pompano Beach | 4/11/2023
Housing Authority of the County of Dekalb, GA | 4/24/2023
Eastern Iowa Regional Housing Authority | 5/18/2023
Housing Authority of the City of Bloomington, IL | 4/24/2023
Housing Authority of the County of McLean, Ill | 4/24/2023
Housing Authority of the City of Richmond | 6/9/2023
Housing Authority of the City of New Albany | 4/11/2023
Housing Authority of the City of Tell City | 6/9/2023
Housing Authority of the City of Jeffersonville | 6/9/2023
Linton Housing Authority | 4/24/2023
Indiana Housing And Community Development Au | 6/9/2023
Topeka Housing Authority | 4/24/2023
Housing Authority of Mayfield | 4/11/2023
Housing Authority of Springfield | 5/30/2023
Laurel County Section 8 Housing | 5/9/2023
HRA of Fergus Falls, Minnesota | 5/9/2023
Stevens County HRA | 5/9/2023
Housing Authority of Kansas City, Missouri | 5/18/2023
Lee's Summit Housing Authority | 5/18/2023
Lafayette County Housing Authority | 5/30/2023
Isothermal Planning & Development Commission | 5/18/2023
Omaha Housing Authority | 4/11/2023
Douglas County Housing Authority | 5/30/2023
Norfolk Housing Agency | 4/11/2023
West Central Nebraska Joint Housing Authority | 4/11/2023
Housing Authority of the City of Orange | 5/18/2023
Irvington Housing Authority | 6/9/2023
Brick Housing Authority | 4/24/2023
West Orange Housing Authority | 6/9/2023
Santa Fe Civic Housing Authority | 5/30/2023
Glens Falls Housing Authority | 6/9/2023
Town of Brookhaven HCDIA | 5/18/2023
Boonville Housing Authority | 5/18/2023
Knox Metropolitan Housing Authority | 5/18/2023
Logan County Metropolitan Housing Authority | 5/9/2023
Fayette County Housing Authority | 5/18/2023
Housing Authority of the County of Chester | 4/11/2023
Housing Authority of the County of Bedford | 5/18/2023
Jackson Housing Authority | 4/11/2023
Etowah Housing Authority | 5/18/2023
Housing Authority of the City of Pearsall | 5/18/2023
Cedar City Housing Authority | 5/9/2023
HA of Island County | 4/24/2023
Mauston Housing Authority | 4/11/2023
Grand Junction Housing Authority | 6/30/2023
Housing Authority of the City of Lakeland | 6/14/2023
Housing Authority of the City of Homestead | 6/30/2023
Collier County Housing Authority | 6/27/2023
Westfield Housing Authority | 6/30/2023
Rice County HRA | 6/30/2023
Housing Authority of the City of Camden | 6/30/2023
Wayne Metropolitan Housing Authority | 6/30/2023
Morrow Metropolitan Housing Authority | 6/30/2023
Sheboygan Housing Authority | 6/30/2023

• Regulation: 24 CFR 982.503(c) (HUD approval of exception payment standard amount).

Project/Activity: FR-6301-N-01 Regulatory and Administrative Requirement Waivers and Flexibilities Available to HUD Public Housing and Section 8 During CY 2022 and CY 2023 to Public Housing Agencies to Assist with Recovery and Relief Efforts on Behalf of Families Affected by Presidentially Declared Disasters.

Reason Waived: HUD's expedited process for waivers and flexibilities from HUD regulatory and administrative requirements (“HUD requirements”) during Presidentially Declared Disasters (PDDs). To respond to PDDs, this notice establishes an expedited process for the review of waiver requests and flexibilities for calendar years (CY) 2022 and 2023, for Public Housing Agencies (PHAs) located within PDDs (PDD PHAs). PDD PHAs may make such requests utilizing the expedited process set forth in this notification.

Granted By: Dominique Blom, General Deputy Assistant for Public and Indian Housing.

Contact: Tesia Anyanaso, Office of Field Operations/Coordination and Compliance Division, Office of Public and Indian Housing, 451 7th St. SW, Suite 3180, Washington, DC 20410-5000, or email to PIH_Disaster_Relief@hud.gov.

PHAs | Date granted
Little Rock Housing Authority | 4/21/2023

• Regulation: 24 CFR 983.202(b)(2), 24 CFR 983.210(a), (c), (d), 24 CFR 983.351(a)(1), 24 CFR 983.260.

Project/Activity: Request for waivers from the U.S. Department of Housing and Urban Development (“HUD”) to facilitate payment of Housing Assistance Payments (“HAP”) while Section 8-assisted households are temporarily moved from their existing units.

Nature of Requirement: (1) 24 CFR 983.202(b)(2) so that, during the Temporary On-Site Move Period, housing assistance will be paid for units under contract and occupied by eligible households, an addendum to the lease will be executed for the Temporary Units covering the period it takes to complete necessary health and safety improvements. (2) 24 CFR 983.210(a) for the units that are unoccupied while lead abatement is being completed so that those units do not need to be in good and tenantable condition or meet HQS during that time period. NYCHA recognizes that protections and procedures must be in place to minimize health and safety risks while work is being completed in unoccupied units. (3) 24 CFR 983.210(c) so that the contract unit, for which the owner is receiving housing assistance, will be covered by any addendums subject to the temporary unit and ensure equal tenant protections during the period it takes to complete necessary health and safety improvements while the original tenant lease remains in place. (4) 24 CFR 983.210(d) so that while tenants are temporarily moved, they may continue to maintain residency at their leased unit. (5) 24 CFR 983.351(a)(1) so that housing assistance payments shall be made for the months during which a contract unit is leased, or for a Temporary Units, under a lease addendum. NYCHA recognizes that no housing assistance payments shall be made for units that are unoccupied. (6) 24 CFR 983.260 so that during the Temporary On-Site Move Period, families may occupy units that are larger than their leased unit and include accessibility features the family does not require.

Granted By: Dominique Blom, General Deputy Assistant Secretary for Public and Indian Housing.

Date Granted: April 12, 2023.

Reason Waived: Allowing the families to temporarily move to units on-site, under the execution of only one lease, will limit residents' exposure to hazardous material during LBP abatement and ensure the necessary rehabilitation work is completed expeditiously for families to safely move back into their original unit as soon as possible.

Contact: Kristen Arnold, Housing Programs Specialist, Office of Public and Indian Housing, Department of Housing and Urban Development, 451 7th Street SW, Washington, DC 20410, telephone (971) 222-2667.

• Regulation: 24 CFR 982.207(a)(1) and 24 CFR 903.17.

Project/Activity: Requesting waiver of 24 CFR 982.207(a)(1). The preference will grant Housing Choice Vouchers (HCVs) for families and individuals referred through the Continuum of Care (Coc) Coordinated Entry System (CES) who met eligibility requirements under LACDA's EHV program.

Nature of Requirement: As described by the LACDA, its governing body requires approval from two separate boards, the Los Angeles County Board of Supervisors (serving as its Board of Commissioners) and its Housing Advisory Committee. Approval of revisions to its administrative plan from each body requires a minimum of 60 days, and the LACDA would like to adopt its EHV preference as soon as possible so that families issued an EHV can receive assistance as they secure housing units. Your letter notes the urgency to serve EHV families searching for a unit, many of whom are currently experiencing unsheltered homelessness and at risk of losing their selected housing.

Granted By: Dominique Blom, General Deputy Assistant Secretary for Public and Indian Housing.

Date Granted: April 20, 2023.

Reason Waived: Pursuant to the waiver authority provided at 24 CFR 5.110, I have determined that there is good cause to waive, and I hereby waive, 24 CFR 982.54(a) to allow the LACDA to implement the limited waiting list preference while it secures full Board approval.

Contact: Emily J. Warren, Housing Programs Specialist, Office of Public and Indian Housing, Department of Housing and Urban Development, 451 7th Street SW, Washington, DC 20410, telephone (202) 708-0614.

• Regulation: 24 CFR 200.320(b)(2)(i).

Project/Activity: St. Louis Housing Authority's (SLHA) request for a non-competitive procurement that exceeds the small procurement threshold.

Nature of Requirement: The regulation at 24 CFR 200.320(b)(2)(i) requires that requests for proposals be publicized and solicited from an adequate number of qualified offerors.

Granted By: Dominique Blom, General Deputy Assistant Secretary for Public and Indian Housing.

Date Granted: April 28, 2023.

Reason Waived: Due to several examples of negligence by the current Management Agent (MA), that jeopardizes the safety for residents and viability of the public housing program an expedited procurement is needed to quickly address these issues by finding a new MA. Given the circumstances presented, good cause has been shown for the noncompetitive procurement of a new MA and HUD authorizes the noncompetitive procurement of a new Management Agent for SLHA based on the public exigency outlined in the SLHA's letter.

Contact: Bernita C. James, Housing Programs Specialist, Office of Public and Indian Housing, Department of Housing and Urban Development, 451 7th Street SW, Washington, DC 20410, telephone (202) 402-7169.

• Regulation: 24 CFR 982.401(a)(2) and (4).

Project/Activity: The Housing Authority of the City of Austin (HACA) and the Housing Authority of Travis County (HATC) with their Continuum of Care, Ending Community Homelessness Coalition (ECHO), sent a letter to the U.S. Department of Housing and Urban Development (HUD) requesting a waiver of 24 CFR 982.401(a)(2) and (4) to allow the Single Room Occupancy (SRO) units at the Community First! Village (CFV) to pass a Housing Quality Standards (HQS) inspection. The units at the CFV are a critical part of Austin's response to HUD's House America campaign. This waiver would enable some of the 600 unsheltered homeless in the Austin, TX, area to live in these units using voucher assistance.

Nature of Requirement: The HACA and the HATC are requesting this waiver due to a severe lack of affordable housing in the Austin, TX area, and a homelessness crisis. The HACA stated that they have individuals searching for units using vouchers, including those with HUD-VASH and Emergency Housing Vouchers, and they are not able to find other suitable units. Providing a waiver to 24 CFR 982.605(b)(2)(i)(A) would expand housing opportunities for these individuals giving them a viable housing option at the CFV. There are dozens of units available at the CFV and plans to build more. Furthermore, the CFV has been open for eight years and the founder of the community, Alan Graham, stated in an April 6 phone call with the Department that the ratio of occupants to bathrooms and showers has not been an issue.

Granted By: Dominique Blom, General Deputy Assistant Secretary for Public and Indian Housing.

Date Granted: May 17, 2023.

Reason Waived: I have determined, pursuant to the waiver authority provided at 24 CFR 5.110, that there is good cause to waive, and I hereby waive, 24 CFR 982.605(b)(2)(i)(A) to allow the Phase 1 and 2 units at the CFV with more than 6 occupants per bathroom and shower to pass an HQS inspection. As an alternative requirement, existing units at the CFV may be approved if there is one bathroom (with flush toilet and lavatory basin) for each 7 occupants and one shower for each 9.5 occupants. If units are constructed in the future, the HACA and the HATC need to provide good cause for any future waiver. HUD cannot grant a waiver covering presently non-existing units, that may be constructed years later, at which time the factual circumstances regarding housing in the area and good cause may have changed. The HACA and the HATC may request another waiver for the units in the future phases after they are built.

Contact: Molly K. Allen, Housing Programs Specialist, Office of Public and Indian Housing, Department of Housing and Urban Development, 451 7th Street SW, Washington, DC 20410, telephone (202) 402-6369.

• Regulation: Waiver of Applicable Regulations to Allow HABC to Apply MTW Flexibilities to Families with VASH Vouchers.

Project/Activity: The Housing Authority of Baltimore City (HABC) has submitted a request to waive applicable regulations to allow HABC to apply MTW flexibilities to families with VASH vouchers. HABC has an allocation of 586 VASH vouchers and 484 of those vouchers are currently under lease.

Nature of Requirement: HABC established these specific additional flexibilities with the objectives of streamlining policies to expedite voucher issuance, simplify program processes, increase staff efficiency, expedite leasing, and improve customer service for both program participants and stakeholders.

Granted By: Dominique Blom, General Deputy Assistant Secretary for Public and Indian Housing.

Date Granted: May 17, 2023.

Reason Waived: It has been determined that the application of the above listed MTW flexibilities would not have a negative impact on HUD-VASH participants and could help more effectively serve HUD-VASH families in your PHA's jurisdiction. In addition, the MTW flexibilities do not conflict with the HUD-VASH Operating Requirements.

Contact: Jerrianne Anthony, Housing Programs Specialist, Office of Public and Indian Housing, Department of Housing and Urban Development, 451 7th Street SW, Washington, DC 20410, telephone (202) 708-0614.

• Regulation: 24 CFR 984.303(d).

Project/Activity: Belmont Housing Resources FSS.

Nature of Requirement: “. . . (d) Contract extension. The PHA shall, in writing, extend the term of the contract of participation for a period not to exceed two years for any FSS family that requests, in writing, an extension of the contract, provided that the PHA finds that good cause exists for granting the extension. The family's written request for an extension must include a description of the need for the extension. As used in this paragraph (d), “good cause” means circumstances beyond the control of the FSS family, as determined by the PHA, such as a serious illness or involuntary loss of employment. Extension of the contract of participation will entitle the FSS family to continue to have amounts credited to the family's FSS account in accordance with § 984.304 . . .”

Granted By: Richard Monocchio, Principal Deputy Assistant Secretary for Public and Indian Housing.

Date Granted: June 6, 2023.

Reason Waived: The FSS participant was ineligible to graduate at the expiration of the extension, because he lost his job due to the COVID-19 pandemic and was subsequently injured and permanently disabled by a car accident during his contract extension. BHR submitted a waiver request on September 21, 2022, prior to the end date of the FSS participant's Contract of Participation, seeking a waiver of 24 CFR 984.303(d) that would allow for an additional six-month extension of the FSS participant's Contract of Participation.

Contact: Jayme Brown, Housing Programs Specialist, Office of Public and Indian Housing, Department of Housing and Urban Development, 451 7th Street SW, Washington, DC 20410, telephone (202) 402-3624.

• Regulation: 24 CFR 983.51(b)(1).

Project/Activity: Requesting a waiver of 24 CFR 983.51(b) in order to allow the Housing Authority of LaSalle County (HALC) to select a project for project-based voucher (PBV) assistance without undergoing a competitive process or based on a previous competition. You are seeking this waiver request so that your agency can non-competitively select Saratoga Towers (Project), a 95-unit apartment property located at 1700 Newton Place, Morris, Illinois, for PBV assistance.

Nature of Requirement: The Project is a public housing development owned by the Grundy County Housing Authority (GCHA). The HALC and the GCHA entered into an Intergovernmental Agreement effective December 21, 2022, allowing the HALC to apply for and administer tenant protection vouchers (TPVs) under the GCHA's Section 22 Streamlined Voluntary Conversion (SVC) Plan (the Plan) for the Project. On February 2, 2023, the HUD Illinois State Office of Public Housing approved the HALC as the agency to administer vouchers on behalf of the GCHA.

Granted By: Richard Monocchio, Principal Deputy Assistant Secretary for Public and Indian Housing.

Date Granted: June 6, 2023.

Reason Waived: Pursuant to the waiver authority provided at 24 CFR 5.110, I have determined that there is good cause to waive, and I hereby waive, 24 CFR 983.51(b) so that the HALC may select Saratoga Towers for an award of PBVs without following a competitive process.

Contact: Nathaniel Johnson, Housing Programs Specialist, 451 7th Street SW, Washington, DC 20410, 202-402-5156.

• Regulation: Section 9(g)(1) of the United States Housing Act of 1937.

Project/Activity: Kansas City Housing Authority is seeking a waiver of Section 9(g)(1) of the United States Housing Act of 1937, specifically for “the flexibility of Capital Fund Amounts” for eligible Operating Fund activities. HAKC is requesting a waiver for its Capital Fund formula grants awarded in Federal Fiscal Years (FFY) 2021 and 2022 to fund anticrime and antidrug activities for large PHAs (those owning/operating 250 or more public housing units).

Nature of Requirement: The Housing Authority of Kansas City, MO (MO002) submitted its request for a waiver to place more than 25% of FY 2022 Capital Funds onto 1406 Operations for anticrime and antidrug activities.

Granted By: Richard Monocchio, Principal Deputy Assistant Secretary for Public and Indian Housing.

Date Granted: June 8, 2023.

Reason Waived: The Housing Authority of Kansas City, MO (MO002) submitted its request for a waiver to place more than 25% of FY 2022 Capital Funds onto 1406 Operations for anticrime and antidrug activities. Section 9(e)(1)(C) of the 1937 United States Housing Act. As noted above, for FY 2022 the limitation in section 9(g)(1) of the 1937 Act is increased from 20% to 25%. For FY 2022 the Secretary may waive this limitation to allow PHAs to fund activities authorized under section 9(e)(1)(C) of the 1937 Act which allows PHAs to use Operating Funds for anticrime and antidrug activities, including the costs of providing adequate security for public housing residents, including above-baseline police service agreements.

Contact: David Fleischman, Housing Programs Specialist, Office of Public and Indian Housing, Department of Housing and Urban Development, 451 7th Street SW, Washington, DC 20410, telephone (202) 402-2071.

• Regulation: 24 CFR 985.101(a)(1-3) and 24 CFR 985.105(a)(1).

Project/Activity: Requesting a waiver from submitting its fiscal year 2023 (July 1, 2022, to June 30, 2023) SEMAP certification in accordance with 24 CFR 985.101(a)(1-3) and 24 CFR 985.105(a)(1). The certification is due August 29, 2023. The PCHA is requesting that HUD not assess the PCHA's performance under SEMAP because of the January 1, 2023, transfer of the Eloy Housing Authority's (EHA) Housing Choice Voucher (HCV) program. The PCHA is experiencing challenges incorporating the EHA's program and assisted families into the PCHA's operations.

Nature of Requirement: The regulations at 24 CFR 985.105(a)(1) provide that HUD shall assess each PHA's performance under SEMAP annually and shall assign each PHA a SEMAP score and overall performance rating.

Granted By: Richard Monocchio, Principal Deputy Assistant Secretary for Public and Indian Housing.

Date Granted: June 20, 2023.

Reason Waived: Pursuant to the waiver authority provided at 24 CFR 5.110, that there is good cause to waive, and I hereby waive, 24 CFR 985.101(a) and 24 CFR 985.105(a)(1) to permit the PCHA to not complete their SEMAP certification in its entirety for its fiscal year ending June 30, 2023.

Contact: Michelle Daniels, Housing Programs Specialist, Office of Public and Indian Housing, Department of Housing and Urban Development, 451 7th Street SW, Washington, DC 20410, telephone (202) 402-6051.

• Regulation: 24 CFR 983.205(b).

Project/Activity: The Hawaii Public Housing Authority (HPHA) is administering a Project-Based Voucher (PBV) HAP contract at Palolo Homes, a 306-unit affordable housing project located in Honolulu, Hawaii. The HPHA, with the support of the Project's sponsor, Mutual Housing Association of Hawaii, Inc. (MHAH), a nonprofit organization focused on providing affordable housing to residents of Hawaii, is requesting HUD to waive certain timeframe provisions for the HAP contract extension, as set forth at 24 CFR 983.205(b).

Nature of Requirement: The HPHA's specific request is to provide a PBV HAP contract extension commitment prior to the 24-month regulatory requirement timeframe. The current HAP contract term expires on March 3, 2027, and under 24 CFR 983.205(b), a HAP contract extension may not be provided any earlier than March 3, 2025. The HPHA would like to make a HAP contract extension commitment in June 2023 (approximately 45 months prior to the existing contract end date).

Granted By: Richard Monocchio, Principal Deputy Assistant Secretary for Public and Indian Housing.

Date Granted: June 29, 2023.

Contact: Nathaniel Johnson, Housing Programs Specialist, Office of Public and Indian Housing, Department of Housing and Urban Development, 451 7th Street SW, Washington, DC 20410, telephone (202) 402-5156.

[FR Doc. 2023-22602 Filed 10-13-23; 8:45 am]

BILLING CODE 4210-67-P